DEPARTMENT OF HOUSING AND URBAN DEVELOPMENT

[Docket No. FR-6311-N-02]

Announcement of Funding Awards; December 2022

AGENCY: Office of Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following program(s): FY2020 and FY2021 Community Compass Technical Assistance and Capacity Building Program [Round 3], Housing Opportunities for Persons With AIDS (HOPWA) Competitive Grant Funding, FY2021 Fair Housing Initiatives Program (FHIP)—American Rescue Plan Private Enforcement Initiative (Round 1), FY2021 Fair Housing Initiatives Program (FHIP)—American Rescue Plan Private Enforcement Initiative (Round 2), FY2021 Fair Housing Initiatives Program (FHIP)—American Rescue Plan Private Enforcement Initiative (Round 3), FY2021 Lead Hazard Reduction Grant Program (Round 1), FY2021 Lead Hazard Reduction Grant Program (Round 2), FY2021 Radon Testing and Mitigation Demonstration for Public Housing, FY2021 Older Adult Home Modification Grant Program, FY2021 Healthy Homes Production Grant Program, FY2021 Tribal HUD VASH Expansion, FY2022Tribal HUD VASH Renewals (PIH-Notice), FY 2022 Public Housing Operating Fund Shortfall Funding, Mainstream Vouchers—Non-Competitive Opportunity for Additional Vouchers Authorized by the CARES Act and Extraordinary Administrative Funding, FY2021 Indian Housing Block Grant (IHBG) Competitive, FY 2019 and 2020 Section 8 Housing Choice Vouchers: Implementation of the Housing Choice Voucher Mobility Demonstration, and FY 2021 Choice Neighborhoods Implementation Grants.

FOR FURTHER INFORMATION CONTACT: Dorthera Yorkshire, Director, Grants Management and Oversight, Office of the Chief Financial Officer (Systems), Grants Management and Oversight at AskGMO@hud.gov; telephone (202) 402-4336 or the contact person listed in each appendix.

SUPPLEMENTARY INFORMATION: HUD posted FY2020 and FY2021 Community Compass Technical Assistance and Capacity Building Program [Round 3] on grants.gov July 23, 2020, (FR-6400-N-06). The competition closed on September 23, 2020. HUD rated and selected for funding based on selection criteria contained in the NOFO. This competition awarded $72,515,411.40 to 22 recipients to build the capacity of HUD's technical assistance customer organizations to deploy HUD-funded programs and initiatives effectively and in compliance with associated rules and regulations.

HUD posted the FY2020 Housing Opportunities for Persons With AIDS (HOPWA) Competitive Grant: Housing as an Intervention to Fight AIDS NOFO on grants.gov April 14, 2021, (FR-6400-N-11). The competition closed on July 6, 2021. HUD rated and selected for funding based on selection criteria contained in the NOFO. This competition awarded $40,468,421 to 20 recipients to provide communities an opportunity to create and implement new projects that align with initiatives aimed at ending the HIV/AIDS epidemic and elevate housing as an effective structural intervention in ending the epidemic.

HUD posted FY2021 Fair Housing Initiatives Program (FHIP)—American Rescue Plan Private Enforcement Initiative (Round 1) Program on grants.gov July 19, 2021 (FR-6500-N-78C). The competition closed on August 18, 2021. HUD rated and selected for funding based on selection criteria contained in the NOFO. This competition awarded $13,642,336.88 to 51 recipients to conduct enforcement activities to prevent or eliminate discriminatory housing practices and inform individuals of their rights and responsibilities under the Fair Housing Act.

In keeping with Congress's intent in enacting the American Rescue Plan, applicants proposed new fair housing projects relating to discrimination arising in connection with the pandemic or focusing on sustaining core fair housing enforcement and education activities. Fair Housing Initiatives Program-Private Enforcement Initiative (PEI) Component accepted applications from eligible PEI organizations seeking support for fair housing enforcement activities that are connected to or adversely impacted by the coronavirus pandemic. Through this funding opportunity, HUD awarded grants to Qualified Fair Housing Enforcement Organizations (QFHO) and Fair Housing Enforcement Organizations (FHO) to help them continue to advance their mission during the interruption of their operation due to the coronavirus pandemic.

HUD posted FY2021 Fair Housing Initiatives Program (FHIP)—American Rescue Plan Private Enforcement Initiative (Round 2) Program on grants.gov November 30, 2021 (FR-6500-N-78C). The competition closed on December 30, 2021. HUD rated and selected for funding based on selection criteria contained in the NOFO. This competition awarded $2,497,310 to 11 recipients to carry out enforcement activities to prevent or eliminate discriminatory housing practices and inform individuals of their rights and responsibilities under the Fair Housing Act. Under fiscal year 2021, FHIP funded the American Rescue Plan (ARP) Private Enforcement Initiative (PEI).

The ARP PEI provides relief funding to eligible PEI organizations to address fair housing inquiries, complaints, investigations, education and outreach activities, and the costs of delivering or adapting services, during or relating to the coronavirus pandemic.

HUD posted FY2021 Fair Housing Initiatives Program (FHIP)—American Rescue Plan Private Enforcement Initiative (Round 3) Program on grants.gov April 5, 2022 (FR-6500-N-78C). The competition closed on May 5, 2022. HUD rated and selected for funding based on selection criteria contained in the NOFO. This competition awarded $125,000 to 1 recipient to carry out enforcement activities to prevent or eliminate discriminatory housing practices and inform individuals of their rights and responsibilities under the Fair Housing Act. Under fiscal year 2021, FHIP funded the American Rescue Plan (ARP) Private Enforcement Initiative (PEI).

The ARP PEI provides relief funding to eligible PEI organizations to address fair housing inquiries, complaints, investigations, education and outreach activities, and the costs of delivering or adapting services, during or relating to the coronavirus pandemic.

HUD posted FY2021 Lead Hazard Reduction Grant Program (Round 1) on grants.gov May 28, 2021 (FR-6400-N-13). The competition closed on July 12, 2021. HUD rated and selected for funding based on selection criteria contained in the NOFO. This competition awarded $107,837,788.03 (Lead $94,363,895.03 and Healthy Homes Supplement $13,473,893.00) to 31 recipients to maximize the number of children under the age of six protected from lead poisoning.

HUD posted FY2021 Lead Hazard Reduction Grant Program (Round 2) on grants.gov August 27, 2021 (FR-6400-N-13). The competition closed on September 27, 2021. HUD rated and selected for funding based on selection criteria contained in the NOFO. This competition awarded $13,159,142 (Lead $11,871,709 and Healthy Homes Supplement $1,287,433) to 3 recipients to maximize the number of children under the age of six protected from lead poisoning.

HUD posted FY2021 Radon Testing and Mitigation Demonstration for Public Housing Program on grants.gov January 25, 2022 (FR-6500-N-80). The competition closed on March 28, 2022. HUD rated and selected for funding based on selection criteria contained in the NOFO. This competition awarded $3,982,295.44 to 9 recipients to provide funds to public housing agencies (PHAs) to conduct testing and as-needed mitigation of radon in the units that they manage and to support the development of a plan for future testing and mitigation.

HUD posted FY2021 Older Adult Home Modification Grant Program on grants.gov March 2, 2021 (FR-6400-N-69). The competition closed on May 18, 2021. HUD rated and selected for funding based on selection criteria contained in the NOFO. This competition awarded $30,000,000 to 32 recipients to enable low-income elderly persons to remain in their homes through low-cost, low barrier, high impact home modifications to reduce older adults' risk of falling, improve general safety, increase accessibility, and to improve their functional abilities in their home.

HUD posted FY2021 Healthy Homes Production Grant Program on grants.gov August 4, 2021 (FR-6500-N-44). The competition closed on September 21, 2021. HUD rated and selected for funding based on selection criteria contained in the NOFO. This competition awarded $104,784,753.10 to 60 recipients to identify and remediate housing-related health and safety hazards in privately owned, low-income rental and/or owner-occupied housing, especially in units and/or buildings where families with children, older adults sixty-two (62) years and older, or families with persons with disabilities reside.

HUD posted FY2021 Tribal HUD VASH Expansion Program on grants.gov October 29, 2021 (FR-6400-N-73). The competition closed January 24,2022. HUD rated and selected for funding based on selection criteria contained in the NOFO. This competition awarded $841,113 to 3 recipients to combine rental assistance and administrative fees from HUD with case management, clinical and supportive services provided by the Department of Veterans Affairs, specifically for Native American Veterans who are homeless or at risk of homelessness.

HUD posted FY2022 Tribal HUD VASH Renewals (PIH-Notice) on grants.gov April 6, 2022 (PIH Notice 2022-08). The competition closed May 27, 2022. HUD rated and selected for funding based on selection criteria contained in the NOTICE. This competition awarded $9,237,868 to 28 recipients to combine rental assistance and administrative fees from HUD with case management, clinical and supportive services provided by Veterans Affairs specifically for Native American Veterans who are homeless or at risk of homelessness.

HUD posted FY 2022 Public Housing Operating Fund Shortfall Funding Program on grants.gov June 13, 2022 (PIH Notice 2022-17). The competition closed July 12, 2022. HUD rated and selected for funding based on selection criteria contained in the NOTICE. This competition awarded $25,000,000 to 181 recipients to provide financial assistance to PHAs that are experiencing a financial shortfall.

HUD posted Mainstream Vouchers—Non-Competitive Opportunity for Additional Vouchers Authorized by the CARES Act and Extraordinary Administrative Funding on grants.gov April 6, 2022 (PIH Notice 2022-07). The opportunity closed on May 6, 2022. HUD rated and selected for funding based on selection criteria contained in the NOTICE. This Notice awarded $36,022,633.72 in extraordinary administrative fees) to 218 recipients to serve a special population of households. Mainstream Vouchers serve households that include a non-elderly person(s) with disabilities, defined as any family that includes a person with disabilities who is at least 18 years old and not yet 62 years old.

HUD posted the FY2021 Indian Housing Block Grant (IHBG) Competitive Program NOFO on grants.gov August 24, 2021 (FR-6500-N-48). The application submission due date was January 4, 2022. The IHBG Competitive program, encourages new affordable housing construction projects to increase the number of housing units available for low-income Indian families and help address housing shortages in Indian communities. Additionally, HUD encourages housing rehabilitation projects that will increase the useful life of existing housing units and alleviate substandard housing conditions. HUD also encourages the acquisition of existing housing units that increase housing stock and necessary affordable housing-related infrastructure projects that will enable future construction or rehabilitation. HUD rated and selected applications for funding based on selection criteria contained in the NOFO. This competition awarded $115,751,859 to 28 recipients to fund new construction housing units.

HUD posted FY 2019 and 2020 Section 8 Housing Choice Vouchers: Implementation of the Housing Choice Voucher Mobility Demonstration Program in the Federal Register July 15, 2020 (FR-6191-N-01). The competition closed on February 1, 2020. HUD rated and selected for funding based on selection criteria contained in the NOFO. This competition awarded $45,730,150 to 13 recipients to provide over 10,000 families with children better access to low-poverty neighborhoods with high-performing schools and other strong community resources. To increase the number of voucher families with children living in opportunity areas, PHAs will provide mobility-related services, including pre-move support and housing search assistance, landlord outreach and support, family financial assistance, landlord financial incentives and post-move supports. The Demonstration will face a rigorous, independent evaluation to determine what services are most effective at helping families move to opportunity areas.

HUD posted FY 2021 Choice Neighborhoods Implementation Grants Program on grants.gov November 17, 2021, (FR-6500-N-34). The competition closed on February 15, 2022. HUD rated and selected for funding based on selection criteria contained in the NOFO. This competition awarded $180,000,000 to 4 recipients to redevelop severely distressed public and HUD-assisted housing. Grantees leverage significant public and private dollars to support locally driven strategies that address struggling neighborhoods with distressed public or HUD-assisted housing through a comprehensive approach to neighborhood transformation. Local leaders, residents, and stakeholders, such as public housing authorities, cities, schools, police, business owners,

nonprofits, and private developers, come together to create and implement a plan that revitalizes distressed HUD housing and addresses the challenges in the surrounding neighborhood.

In accordance with section 102(a)(4)(C) of the Department of Housing and Urban Development Reform Act of 1989 (103 Stat. 1987, 42 U.S.C. 3545(a)(4)(C)), the Department is publishing the awardees and the amounts of the awards in Appendices A-Q of this document.

Dorthera Yorkshire,
Director, Grants Management and Oversight, Office of the Chief Financial Officer.

Appendix A

FY2020 and FY2021 Community Compass Technical Assistance and Capacity Building Program [Round 3]. (FR-6400-FA-06)

Contact: Stephanie Stone, (202)-402-7418.

Legal name | Street address | City | St | Zip code | Award type ** | FY20 P.L. 116-94 funding total (NHDAP, YHAP) | FY21 P.L. 116-260 funding totals | FY21 P.L. 117-2 funding totals (ARP) | FY21 P.L. 117-2 funding totals (CDC interagency agreement) | FY22 P.L. 117-43 funding totals (CDBG-DR) | Total per provider
ICF Incorporated, L.L.C | 9300 Lee Highway | Fairfax | VA | 22031 | CDATFHMY | $28,000.00 | $14,924,460.00 | $250,000.00 |  | $1,500,000.00 | $16,702,460.00
Technical Assistance Collaborative | 15 Court Square, 11th floor | Boston | MA | 02108 | CJMY | 1,640,942.00 | 3,455,000.00 |  | 425,320.00 |  | 5,521,262.00
Cloudburst Consulting Group, Inc | 8400 Corporate Drive, Suite 550 | Landover | MD | 20785 | CDFHJM |  | 4,959,300.00 |  | 440,000.00 | 1,250,000.00 | 6,649,300.00
Corporation for Supportive Housing | 61 Broadway, Suite 2300 | New York | NY | 10006 | CDHYMH | 724,058.00 | 5,844,000.00 |  |  | 250,000.00 | 6,818,058.00
Collaborative Solutions, Inc | P.O. Box 130159 |  | AL | 32513 | CYM | 170,000.00 | 1,824,500.00 |  |  |  | 1,994,500.00
FirstPic, Inc | 2614 Chapel Lake | Gambrills | MD | 21054 | CT |  | 3,230,000.00 |  |  |  | 3,230,000.00
Local Initiatives Support Corporation | 28 Liberty Street, 34th Floor | New York | NY | 10005 | CDT |  | 2,961,540.00 |  |  | 500,000.00 | 3,461,540.00
Econometrica, Inc | 7475 Wisconsin Avenue, Suite 1000 | Bethesda | MD | 20814 | CD |  | 1,074,200.00 |  |  | 250,000.00 | 1,324,200.00
Homebase/The Center for Common Concerns | 870 Market Street, Ste. 1228 | San Francisco | CA | 94102 | CYMH | 850,000.00 | 4,617,000.00 |  |  |  | 5,467,000.00
TDA Consulting, Inc | 1110 Harvest Canyon | San Antonio | TX | 78258 | CM |  | 1,708,000.00 |  |  |  | 1,708,000.00
CVR Associates, Inc | 2309 S MacDill Avenue, Suite 200 | Tampa | FL | 33629 | C | 903,167.40 | 2,277,924.00 |  |  |  | 3,181,091.40.00
Du & Associates, Inc | 4350 East-West Highway, Suite 310 | Bethesda | MD | 20814 | C |  | 525,000.00 |  |  |  | 525,000.00
CGI Federal Inc. * | 12601 Fair Lakes Circle | Fairfax | VA | 22033 |  |  | 0.00 |  |  |  |
American Institutes for Research (AIR) | 1000 Thomas Jefferson Street NW | Washington | DC | 20007 | C |  | 550,000.00 |  |  |  | 550,000.00
Association of Alaska Housing Authorities | 4300 Boniface Parkway T&TA Program | Anchorage | AK | 99504 | T |  | 1,000,000.00 |  |  |  | 1,000,000.00
Abt Associates, Inc | 6130 Executive Blvd | Rockville | MD | 20852 | CHYMH | 1,041,000.00 | 5,858,000.00 |  |  |  | 6,899,000.00
National Association for Latino Community Asset Builders | 5404 Wurzbach Road | San Antonio | TX | 78238 | C |  | 350,000.00 |  |  |  | 350,000.00
The Partnership Center, Ltd | 2134 Alpine Place 123 Any Street | Cincinnati | OH | 45206 | YH | 250,000.00 | 749,000.00 |  |  |  | 999,000.00
Enterprise Community Partners, Inc | 70 Corporate Center 11000 Broken Land Parkway | Columbia | MD | 21044 | C |  | 1,360,000.00 |  |  |  | 1,360,000.00
Corporate F.A.C.T.S., Inc | 51248 Plymuoth Valley Dr. | Plymouth | MI | 48170 | C |  | 675,000.00 |  |  |  | 675,000.00
Capital Access, Inc | 220 Locust Street, Suite 16C | Philadelphia | PA | 19106 | CD |  | 600,000.00 |  |  | 1,250,000.00 | 1,850,000.00
National American Indian Housing Council | 122 C Street NW, Suite 350 | Washington | DC | 20001 | T |  | 2,250,000.00 |  |  |  | 2,250,000.00
Totals |  |  |  |  |  | 5,607,167.40 | 60,792,924.00 | 250,000.00 | 865,320.00 | 5,000,000.00 | 72,515,411.40
* CGI declined award of 250K. The award was transferred to Du & Associates.
** Award Type Descriptions (new awards that have not started).

C

Purpose: The purpose of this Award is to build the capacity of HUD's technical assistance customer organizations to deploy HUD-funded programs and initiatives effectively and in compliance with associated rules and regulations.

Activities Performed: HUD will identify specific technical assistance needs to be addressed through a demand-response program model. The recipient may respond to those needs through a range of eligible activities needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include HUD customer organizations and will vary by activity. HUD customer organizations include state and local grantees, PHAs, owners and managers of HUD-assisted housing, CoCs, non-profit grantees, HMIS Leads, HUD-approved housing counseling agencies and counselors, tribal organizations, Indian tribes, tribally designated housing entities (TDHEs), FHA-approved multifamily lenders, residents and participants in HUD-funded programs and initiatives.

Subrecipient Activities: Subrecipient activities are unknown at the time of award.

D

Purpose: The purpose of this Award is to build the capacity of HUD's Community Development Block Grant (CDBG) disaster recovery grantees to deploy CDBG disaster recovery programs effectively and in compliance with associated rules and regulations.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include CDBG disaster recovery grantees, specifically States, units of general local government, or Indian tribes, and subrecipients of those grantees.

Subrecipient Activities: Subrecipient activities are unknown at the time of award.

A

Purpose: The purpose of this Award is to build the capacity of HUD's American Recovery Plan (ARP) grantees to deploy American Rescue Plan funded programs effectively and in compliance with associated rules and regulations.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries will vary by activity and can include HUD's American Rescue Plan grantees.

Subrecipient Activities: Subrecipient activities are unknown at the time of award.

T

Purpose: The purpose of this Award is to build the capacity of HUD's Office of Native American Programs customer organizations to deploy effective and compliant HUD-funded programs and initiatives.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries will vary by activity and can include Indian Housing Block Grant (IHBG) recipients, specifically tribes and TDHEs; potential or current Section 184 Loan Guarantee program borrowers or lenders; and Indian Community Development Block Grant (ICDBG) grantees.

Subrecipient Activities: Subrecipient activities are unknown at the time of award.

F

Purpose: The purpose of this Award is to build the capacity of current and future fair housing professionals, including but not limited to Fair Housing Assistance Program and Fair Housing Initiatives Program recipients, to deploy programs and initiatives aimed at ending housing discrimination.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include current and future fair housing professionals, including but not limited to Fair Housing Assistance Program and Fair Housing Initiatives Program recipients.

Subrecipient Activities: Subrecipient activities are unknown at the time of award.

H

Purpose: The purpose of this Award is to achieve the highest level of performance and results for Homelessness Management Information System (HMIS) implementation, including improving the capacity of persons charged with setting up and operating HMIS implementations; ensuring that HMIS collect accurate, comprehensive, and timely data; and supporting CoCs and stakeholders to use homeless data to improve efforts to end homelessness.

Activities Performed: Activities will vary and include: technical assistance and training to help CoCs analyze data and understand data trends; use data to inform and revise plans and strategies; use performance measurement and reporting tools; create data sharing partnerships and agreements; collect, report, and use accurate and valid data on programs, activities, and beneficiaries; HMIS software management and operation; HMIS governance; standardized data collection for HUD-required reporting; system performance measurement and analysis; and system modeling.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include Continuums of Care.

Subrecipient activities: Subrecipient activities are unknown at the time of award.

J

Purpose: The purpose of this Award is to build the capacity of Department of Treasury grantees to deploy the Emergency Rental Assistance program effectively and in compliance with associated rules and regulations.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include Department of Treasury Emergency Rental Assistance program grantees.

Subrecipient Activities: Subrecipient activities are unknown at the time of award.

Y

Purpose: The purpose of this Award is to build the capacity of HUD's special needs assistance programs customer organizations to deploy the Youth Homelessness Demonstration Program effectively and in compliance with associated rules and regulations.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries include Youth Homelessness Demonstration Program grantees.

Subrecipient Activities: Subrecipient activities are unknown at the time of award.

M

Purpose: The purpose of this Award is to build the capacity of HUD's special needs assistance program customer organizations to deploy Continuum of Care and Emergency Solutions Grant programs effectively and in compliance with associated rules and regulations.

Activities Performed: HUD will identify specific technical assistance needs to be addressed through a demand-response program model. The recipient may respond to those needs through a range of eligible activities: needs assessments; direct technical assistance and capacity building; development and maintenance of tools and products; self-directed and group learning; knowledge management; data analysis, reporting, and performance measurement; administration; and coordination.

Expected Outcomes: Outcomes are the results of technical assistance activities, including but not limited to changes in management or operation of HUD-funded programs or initiatives. Specific outcomes will vary based on the nature of the activities carried out. Standard outcome categories include improved capacity to design programs, policies, and strategies as well as to deliver projects, programs, or systems that address community needs as defined in the TA scope.

Intended Beneficiaries: Beneficiaries will vary by activity and include technical assistance customers of HUD's Special Needs Assistance Programs which manage awards made under a McKinney-Vento or HEARTH Act authorization.

Subrecipient Activities: Subrecipient activities are unknown at the time of award.

Appendix B

FY2020 Housing Opportunities for Persons With AIDS (HOPWA) Competitive Grant (FR-6400-FA-11)

Contact: Lisa Steinhauer, 215-861-7651.

Organization name | Street address | City | State | Zip code | Award amount | Project description
Abounding Prosperity Incorporated | 2311 Martin Luther King, Jr. Boulevard | Dallas | TX | 75215-2302 | $2,250,000.00 | Purpose: To provide housing to LGBTQ+ HIV-positive youth of color (ages 16-29) experiencing homelessness in Dallas County, TX. Activities to be performed: Tenant-Based Rental Assistance, Short-Term, Rent, Mortgage and Utility assistance, Permanent Housing Placement assistance, and supportive services. Deliverables and Expected outcomes: This project will increase housing stability for 68 LGBTQ+ youth of color living with HIV per year. Intended beneficiary: LGBTQ+ youth of color living with HIV. Subrecipient Activities: n/a.
African Services Committee, Inc | 429 W. 127th Street | New York | NY | 10027-2544 | 2,250,000.00 | Purpose: African Services Committee's (ASC) model will focus on housing placement assistance for immigrant people living with HIV (PLWH), with the goal of stabilizing eligible households to assist them in achieving long-term, permanent housing. Activities to be performed: Short Term Rent, Mortgage and Utility Assistance and Permanent Housing Placement services. Deliverables and Expected outcomes: Annually, funds will provide 25 households with Short Term Rent, Mortgage and Utility Assistance, 50 households with Permanent Housing Placement services and utilities assistance for 25 households. Intended beneficiary: The program will focus on marginalized people of color (primarily African and Caribbean) populations. Subrecipient Activities: n/a.
AIDS Foundation Houston, Inc | 6260 Westpark Dr., Suite 100 | Houston | TX | 77057-7353 | 2,250,000.00 | Purpose: HOME BASE will provide stable supportive housing, case management, financial management and employment training and placement, life skills coaching, navigation into culturally humble health care, food and transportation assistance, mental health and substance use disorder counseling, housing information services, and robust permanent housing placement to PLWH who are most vulnerable to being out of care. Activities to be performed: Permanent Housing and Supportive Services. Deliverables and Expected outcomes: A Bridge to Access, Services, and Equity), an innovative supportive housing program that will serve 30 people living with HIV (PLWH) over 36 months. Intended beneficiary: PLWH who are most vulnerable to being out of care. Subrecipient Activities: n/a.
AIDS Foundation Of Chicago | 200 W. Monroe Street, Suite 1150 | Chicago | IL | 60606-0575 | 2,250,000.00 | Purpose: AIDS Foundation of Chicago is awarded a HOPWA Housing as an Intervention to Fight AIDS competitive grant of $2,250,000 for Keep Empowering Young Adults to Succeed (KEYS), a collaboration among AIDS Foundation of Chicago, Center for Housing and Health, La Casa Norte, and Chicago House. KEYS aims to demonstrate that expediting access to stable housing with wrap-around supportive services is an effective intervention to improve HIV care outcomes. Activities to be performed: The KEYS program will provide Tenant Based Rental Assistance for 40 Chicagoans ages 18-30 living with HIV/AIDS and experiencing homelessness. Deliverables and Expected outcomes: 40 Chicagoans ages 18-30 living with HIV/AIDS and experiencing homelessness. KEYS aims to demonstrate that expediting access to stable housing with wrap-around supportive services is an effective intervention to improve HIV care outcomes for those 18-30 years old. Intended beneficiary: Chicagoans ages 18-30 living with HIV/AIDS and experiencing homelessness. Subrecipient Activities: Tenant Based Rental Assistance.
Vivent Health | 5250 Leetsdale Dr. | Denver | CO | 80246-1451 | 1,660,899.00 | Purpose: Vivent Health will implement an integrated program to provide Tenant-Based Rental Assistance (TBRA) for people living with HIV (PLWH) in the Denver area. Activities to be performed: TBRA will be provided to 30 HOPWA eligible households annually. Deliverables and Expected outcomes: TBRA will be provided to 30 HOPWA eligible households annually. Intended beneficiary: Low Income PLWH in the Denver area. Subrecipient Activities: n/a.
Broward House, Inc | 1726 SE 3rd Ave | Fort Lauderdale | FL | 33316-2514 | 2,164,296.00 | Purpose: Broward House is awarded a HOPWA Housing as an Intervention to Fight AIDS competitive grant of $2,164,296 to expand transitional housing services for people living with HIV (PLWH) with substance use disorders and/or co-occurring disorders. Activities to be performed: The program will provide community housing complemented with onsite substance abuse treatment. Deliverables and Expected outcomes: Expand access to safe, affordable housing opportunities for PLWH and increasing retention in care and viral load suppression. The program will serve up to 73 households over the three-year project period. Intended beneficiary: People living with HIV (PLWH) with substance use disorders and/or co-occurring disorders. Subrecipient Activities: n/a.
Chicago House And Social Service Agency | 2229 S. Michigan Avenue, Suite 304 | Chicago | IL | 60616-2102 | 1,463,558.00 | Purpose: Chicago House and Social Service Agency is awarded a HOPWA Housing as an Intervention to Fight AIDS competitive grant of $1,463,558 for the TransLife Care Program. The Program will combine housing assistance with the innovative trans-specific services available at Chicago House. Activities to be performed: Housing subsidy, search, and placement assistance will be provided through Tenant Based Rental Assistance (TBRA), Housing Information Services, and Permanent Housing Placement. Deliverables and Expected outcomes: Over 110 households will be served over the three-year project period. Intended beneficiary: HIV-positive transwomen of color and Latinx women experiencing homelessness. Subrecipient Activities: n/a.
Community Rightful Center, Inc | 9526 NE 2nd Ave, Suite 202D | Miami Shores | FL | 33138-2741 | 2,208,000.00 | Purpose: To provide transitional housing to people living with HIV (PLWH) in South Florida. The goal of the program is to provide housing assistance and supportive services to improve housing stability for PLWH by increasing their capacity to obtain and retain employment. Activities to be performed: To provide transitional housing to people living with HIV (PLWH) in South Florida. Deliverables and Expected outcomes: The program will serve up to 105 PLWH over the three-year project period. Intended beneficiary: PLWH in South Florida. Subrecipient Activities: n/a.
Damien Center Inc, The | 26 North Arsenal Avenue | Indianapolis | IN | 46201-3808 | 2,074,526.00 | Purpose: To serve low-income people living with HIV with a specific focus on individuals aged 55 and over, through the Elder Housing Assistance Program (EHAP). Activities to be performed: The EHAP program will provide Tenant-Based Rental Assistance, Short-Term Rent, Mortgage, and Utility assistance, and related supportive services. Deliverables and Expected outcomes: With a housing first approach paired with generational competence, harm reduction, and holistic care approaches, this elder community will see not only an improvement in health outcomes, but also in health equity and a reduction of common barriers to housing and healthcare. 212 households will be served annually. Intended beneficiary: People living with HIV with a specific focus on individuals aged 55 and over. Subrecipient Activities: n/a.
Fenway Community Health Center, Inc | 1340 Boylston Street | Boston | MA | 02215-4302 | 1,261,004.00 | Purpose: To create a continuum of care and services for those with a high level of need around care, treatment, and social determinate of health supports, with a focus on housing stability for people living with HIV(PLWH). Activities to be performed: Housing placement and rental assistance. Deliverables and Expected outcomes: The project will demonstrate improved health outcomes and housing stability for the PLWH served and will establish a sustainable, replicable system for assessing client need, linking individuals to care and services, and providing ongoing support for retention in care, treatment, and services. 216 households will receive rental assistance and supportive services. Intended beneficiary: PLWHA with a high level of need around care, treatment, and social determinate of health supports. Subrecipient Activities: n/a.
Foothills AIDS Project | 678 S. Indian Hill Blvd., Suite 220 | Claremont | CA | 91711-6000 | 2,250,000.00 | Purpose: To implement a new initiative designed to elevate housing as an effective structural intervention within the Riverside- San Bernardino Metropolitan Statistical Area. Activities to be performed: Foothill AIDS project will work in collaboration with regional service partners and strategic initiatives to deliver a coordinated continuum of housing-related services, HIV primary care, and wrap-around supportive services to facilitate stable permanent housing. Deliverables and Expected outcomes: Deliver a coordinated continuum of housing-related services, HIV primary care, and wrap-around supportive services to facilitate stable permanent housing outcomes for a total of 125 people living with HIV/AIDS over the 36-month grant period. Intended beneficiary: PLWHA in the Riverside-San Bernardino Metropolitan Statistical Area. Subrecipient Activities: n/a.
Tulsa Cares | 3712 E 11th Street | Tulsa | OK | 74112-3952 | 560,103.00 | Purpose: To support Achieving Housing Stability, an innovative housing project that will use Critical Time Intervention (CTI) and Master Leasing, two complementary strategies that are new to the agency. Activities to be performed: Master Leasing rental assistance. Deliverables and Expected outcomes: The program will serve 45 HOPWA-eligible households with housing assistance and supportive services. Intended beneficiary: People living with HIV. Subrecipient Activities: n/a.
Gregory House Program | 200 N. Vineyard Blvd., Suite A310 | Honolulu | HI | 96817-3938 | 2,194,347.00 | Purpose: To implement the E Ola Project that will expand housing services for PLWH in Hawaii and provide new housing interventions. Activities to be performed: Housing Information Services, Tenant Based Rental Assistance and Short-Term, Rental, Mortgage and Utility Assistance and Supportive Services. Deliverables and Expected outcomes: The E Ola Project that will serve 500 HOPWA eligible people living with HIV (PLWH) and their families over three years. Intended beneficiary: PLWH in Hawaii. Subrecipient Activities: n/a.
Hope House Day Care Center, Inc | 23 S. Idlewild St. | Memphis | TN | 38104-3926 | 2,134,046.00 | Purpose: An overarching goal of the program is to ensure all assisted households are placed in long-term, stable housing and achieve viral suppression. Activities to be performed: Hope House will provide intensive case management, Tenant Based Rental Assistance, Short-Term Rent, Mortgage and Utility assistance, and Permanent Housing Placement assistance. Deliverables and Expected outcomes: Hope House will provide up to 40 individuals and their families with housing support during the length of the three-year grant term. Intended beneficiary: People living with HIV and their families in Memphis, TN, and surrounding areas. Subrecipient Activities: n/a.
Interfaith Residence | 4385 Maryland Ave | St. Louis | MO | 63108-2703 | 2,250,000.00 | Purpose: Doorways, a nonprofit located in St. Louis, is awarded $2,250,000 for the DOORWAYS 2.0 program. This program will address the social determinants of health that create disparities and prevent equity and access, by weaving together stable housing with onsite wrap-around supportive services. Activities to be performed: The program will provide housing, case management, behavioral health, substance use support groups, employment services, nutritional support, and transportation assistance. Deliverables and Expected outcomes: The program will serve 50 households annually. Intended beneficiary: Newly diagnosed, low-income PLWHA. Subrecipient Activities: n/a.
Kansas City, Missouri, City Of | 2400 Troost Ave, Suite 1200 | Kansas City | MO | 64108-2879 | 2,250,000.00 | Purpose: To continue the development and implementation of a housing services continuum to meet the dynamic housing assistance and supportive service needs of low-income people living with HIV and their families. Activities to be performed: Supportive Services, Short-Term Rent, Mortgage, and Utility assistance, Permanent Housing Placement assistance, Transitional Housing assistance and Tenant Based Rental Assistance. Deliverables and Expected outcomes: Funding will support employment services for 50 households, Short-Term Rent, Mortgage, and Utility assistance for 150, Permanent Housing Placement assistance for 60 and Transitional Housing assistance for 15 and Tenant Based Rental Assistance for 50 households annually. Intended beneficiary: Low-income people living with HIV and their families. ubrecipient Activities: n/a
Palmetto AIDS Life Support Services | 2638 Two Notch Rd., Suite 108 | Columbia | SC | 29204-1102 | 2,248,042.00 | Purpose: To expand permanent housing services available to low-income persons living with HIV/AIDS. Activities to be performed: Tenant-Based Rental Assistance, Supportive Services, Housing Information, and Short-Term, Rent, Mortgage and Utility assistance. Deliverables and Expected outcomes: By the end of the grant period, PALSS will serve 135 eligible households. Intended beneficiary: HOPWA eligible households. Subrecipient Activities: n/a.
Seattle, City Of | 700 Fifth Avenue, Suite 5800 | Seattle | WA | 98104-1822 | 2,250,000.00 | Purpose: City of Seattle is awarded $2,250,000 for a highly collaborative, innovative project designed to end racial disparities in the region's continuum of care for people living with HIV. Activities to be performed: Provide low barrier, stable housing, culturally relevant supportive services, and capacity expansion for POC-led community-based service organizations to administer housing assistance programs. Deliverables and Expected outcomes: The program will provide housing services for 84 households. Intended beneficiary: People of color (POC) living with HIV. Subrecipient Activities: The City of Seattle, the People of Color Against AIDS Network, Center for Multicultural Health, Entre Hermanos, and the Housing Connector will create a highly collaborative, innovative project designed to end racial disparities in the region's continuum of care for people living with HIV.
Tampa, City Of | 306 E. Jackson St. | Tampa | FL | 33602-5208 | 2,250,000.00 | Purpose: To provide transitional housing, Tenant-Based Rental Assistance (TBRA), intensive case management and wrap-around supportive services to people living with HIV in Hillsborough County, Florida. Activities to be performed: Transitional housing, Tenant-Based Rental Assistance (TBRA), intensive case management and wrap-around supportive services. Deliverables and Expected outcomes: The program will provide housing and supportive services to over 74 households annually. Intended beneficiary: People living with HIV in Hillsborough County, Florida. Subrecipient Activities: n/a.
Volunteers Of America Of Los Angeles | 3600 Wilshire Boulevard, Suite 1500 | Los Angeles | CA | 90010-2619 | 2,250,000.00 | Purpose: For a multi-pronged approach in using stable housing as an intervention to fight HIV/AIDS. Activities to be performed: Tenant-Based Rental Assistance (TBRA), Permanent Housing Placement (PHP) and Short-Term Rent, Mortgage and Utility (STRMU). Deliverables and Expected outcomes: TBRA will be provided to 10 households, PHP to 10 households and STRMU to 30 households annually. Intended beneficiary: HOPWA eligible people experiencing or at-risk for homelessness. Subrecipient Activities: n/a.
Total |  |  |  |  | 40,468,821.00 |

Appendix C

FY2021 Fair Housing Initiatives Program (FHIP)—American Rescue Plan Private Enforcement Initiative (Round 1): (FR-6500-N-78C)

Contact: Stephanie W. Thomas (202) 402-6938.

Organization name | Address | City | State | Zip code | Amount | Project description
Alaska Legal Services Corporation | 1016 W. 6th Avenue, Suite 200 | Anchorage | AK | 99501 | $75,000.00 | 1. Purpose: Provide fair housing organizations with emergency funding relief to address fair housing inquiries, complaints, investigations, education and outreach activities, and the costs of delivering or adapting services, during or relating to the coronavirus pandemic. 2. Activities: Affirmatively Further Fair Housing statewide by screening intakes for fair housing issues and initiating affirmative litigation. 3. Deliverables and expected outcomes: provide Anchorage with the knowledge it needs to identify and address fair housing issues. 4. Intended Beneficiary(ies): Anchorage residents. 5. Subrecipient Activities: N/A.
Legal Aid of Arkansas, Inc | 714 South Main | Jonesboro | AR | 72401 | 350,000.00 | 1. Purpose: Legal Aid of Arkansas will ensure that Arkansas' only private fair housing enforcement organization continues to meet the challenges brought on by the COVID-19 pandemic. 2. Activities: Services will include enforcement of meritorious claims, testing, systemic investigations, and education and outreach. 3. Deliverables and expected outcomes: increase knowledge and complaint intake of alleged housing discrimination. 4. Intended Beneficiary(ies): Marshallese and Latinx populations in Northwest Arkansas and individuals at risk of institutionalization across Arkansas. 5. Subrecipient Activities: unknown.
Southwest Fair Housing Council | 177 N Church Ave, Suite 1104 | Tucson | AZ | 85701 | 350,000.00 | 1. Purpose: SWFHC will conduct complaint-based investigations to assist individuals who believe they have experienced illegal housing discrimination, particularly related to COVID-19. 2. Activities: conduct systemic investigations to uncover evidence of illegal housing discrimination in the housing market, focusing on issues related to the pandemic. SWFHC will conduct fair housing tests as part of its investigations. 3. Deliverables and expected outcomes: increase fair housing complaints for filing to HUD. 4. Intended Beneficiary(ies): general public. 5. Subrecipient Activities: unknown.
California Rural Legal Assistance, Inc | 1430 Franklin Street, Suite 103 | Oakland | CA | 94612 | 350,000.00 | 1. Purpose: The ARP PEI provides relief funding to eligible PEI organizations to address fair housing inquiries, complaints, investigations, education and outreach activities, and the costs of delivering or adapting services, during or relating to the coronavirus pandemic. 2. Activities: intake, investigation, testing, complaint resolution, litigation, training. 3. Deliverables and expected outcomes: training staff to enhance understanding of COVID-based foreclosure protections which are complex and still evolving, increase complaint intake to enforcement agencies, achieve successful complaint mediations. 4. Intended Beneficiary(ies): state and local housing authorities, fair housing employees, tenants, and homeowners. 5. Subrecipient Activities: unknown.
Fair Housing Council of Riverside County, Inc | P.O. Box 1068 | Riverside | CA | 92502 | 350,000.00 | 1. Purpose: The ARP PEI provides relief funding to eligible PEI organizations to address fair housing inquiries, complaints, investigations, education and outreach activities, and the costs of delivering or adapting services, during or relating to the coronavirus pandemic. 2. Activities: testing, investigations, training, site assessment, and intake. 3. Deliverables and expected outcomes: train testers, conduct fair housing tests, refer fair housing complaints to HUD, conduct site assessments. 4. Intended Beneficiary(ies): tenants, homeowners, disabled persons, state, and local fair housing agency staff. 5. Subrecipient Activities: 2 partnering agencies will assist with project activities listed above.
Inland Fair Housing and Mediation Board | 1500 S Haven Avenue, Suite 100 | Ontario | CA | 91761 | 350,000.00 | 1. Purpose: The ARP PEI provides relief funding to eligible PEI organizations to address fair housing inquiries, complaints, investigations, education and outreach activities, and the costs of delivering or adapting services, during or relating to the coronavirus pandemic. 2. Activities: education and outreach. 3. Deliverables and expected outcomes: increase awareness of fair housing discrimination to minority groups. 4. Intended Beneficiary(ies): immigrants, LBTQ+, and disabled in San Bernardino, Riverside, and Imperial Counties. 5. Subrecipient Activities: unknown.
Legal Aid Society of San Diego, Inc | 110 South Euclid Avenue | San Diego | CA | 92114 | 350,000.00 | 1. Purpose: The ARP PEI provides relief funding to eligible PEI organizations to address fair housing inquiries, complaints, investigations, education and outreach activities, and the costs of delivering or adapting services, during or relating to the coronavirus pandemic. 2. Activities: education and outreach, enforcement-related activities. 3. Deliverables and expected outcomes: increase in fair housing services after the eviction protections. 4. Intended Beneficiary(ies): protected classes. 5. Subrecipient Activities: unknown.
Fair Housing Advocates of Northern California | 1314 Lincoln Ave, Ste. A | San Rafael | CA | 94901 | 350,000.00 | 1. Purpose: The ARP PEI provides relief funding to eligible PEI organizations to address fair housing inquiries, complaints, investigations, education and outreach activities, and the costs of delivering or adapting services, during or relating to the coronavirus pandemic. 2. Activities: intake/referral, reasonable accommodations, and evaluation/referrals of complaints to HUD and/or DFEH or private attorneys for enforcement action. 3. Deliverables and expected outcomes: referral of 100 clients calling as a result of Covid-related evictions or other Covid-related issues; evaluating 10 Covid-related complaints for enforcement actions; providing fair housing services to clients in their primary language calling as a result of Covid-related issues; and assisting clients in requesting 20 reasonable accommodations/modifications. 4. Intended Beneficiary(ies): LEP populations, tenants and homeowners, disabled persons. 5. Subrecipient Activities: unknown.
Connecticut Fair Housing Center | 60 Popieluszko Court | Hartford | CT | 06106 | 350,000.00 | 1. Purpose: The ARP PEI provides relief funding to eligible PEI organizations to address fair housing inquiries, complaints, investigations, education and outreach activities, and the costs of delivering or adapting services, during or relating to the coronavirus pandemic. 2. Activities: intake, investigations. 3. Deliverables and expected outcomes: determine violations of the fair laws and refer complaints to HUD or fair housing agencies. 4. Intended Beneficiary(ies): low-income communities. 5. Subrecipient Activities: unknown.
National Fair Housing Alliance | 1331 Pennsylvania Ave., NW, Suite 650 | Washington | DC | 20004 | 350,000.00 | 1. Purpose: The ARP PEI provides relief funding to eligible PEI organizations to address fair housing inquiries, complaints, investigations, education and outreach activities, and the costs of delivering or adapting services, during or relating to the coronavirus pandemic. 2. Activities: investigations, education and outreach, test, online marketing. 3. Deliverables and expected outcomes: conduct 25 investigations, increase knowledge through online education, conduct 12 appraisal tests. 4. Intended Beneficiary(ies): homeowners, realtors, tenants, landlords, home insurance companies, mortgage finance lenders. 5. Subrecipient Activities:5 agencies will assist in appraisal investigations.
Equal Rights Center | 11 Dupont Circle, NW | Washington | DC | 20036 | 350,000.00 | 1. Purpose: the ARP PEI provides relief funding to eligible PEI organizations to address fair housing inquiries, complaints, investigations, education and outreach activities, and the costs of delivering or adapting services, during or relating to the coronavirus pandemic. 2. Activities: distribute fair housing toolkit, provide outreach to the housing providers and the disabled. 3. Deliverables and expected outcomes: outreach to 50 local LEP organizations, distribute 10,000 toolkits to households, and attend 10-hour provider outreach meetings. 4. Intended Beneficiary(ies): LEP persons, disabled persons, rural communities, homeowners, and tenants. 5. Subrecipient Activities: unknown.
National Community Reinvestment Coalition | 740 15th Street, NW | Washington | DC | 20005 | 346,819.55 | 1. Purpose: the ARP PEI provides relief funding to eligible PEI organizations to address fair housing inquiries, complaints, investigations, education and outreach activities, and the costs of delivering or adapting services, during or relating to the coronavirus pandemic. 2. Activities: system investigations. 3. Deliverables and expected outcomes: 14 appraisal test and 40 internet sales tests. 4. Intended Beneficiary(ies): homeowners, underserved populations. 5. Subrecipient Activities: unknown.
Housing Opportunities Project for Excellence (HOPE), Inc | 11501 NW 2nd Avenue | Miami | FL | 33168 | 350,000.00 | 1. Purpose: The ARP PEI provides relief funding to eligible PEI organizations to address fair housing inquiries, complaints, investigations, education and outreach activities, and the costs of delivering or adapting services, during or relating to the coronavirus pandemic. 2. Activities: distribute education and outreach materials. 3. Deliverables and expected outcomes: expand and increase public engagement on fair housing matters. 4. Intended Beneficiary(ies): general public. 5. Subrecipient Activities: unknown.
Community Legal Services of Mid-Florida, Inc | 122 E. Colonial Dr Ste 200 | Orlando | FL | 32801 | 350,000.00 | 1. Purpose: The ARP PEI provides relief funding to eligible PEI organizations to address fair housing inquiries, complaints, investigations, education and outreach activities, and the costs of delivering or adapting services, during or relating to the coronavirus pandemic. 2. Activities: investigations and intake. 3. Deliverables and expected outcomes: enhance education and outreach knowledge targeted to 12 counties. 4. Intended Beneficiary(ies): housing providers, at-risk populations, and homeowners. 5. Subrecipient Activities: unknown.
JC Vision and Associates Inc | P.O. Box 1972 | Hinesville | GA | 31310 | 75,000.00 | 1. Purpose: The ARP PEI provides relief funding to eligible PEI organizations to address fair housing inquiries, complaints, investigations, education and outreach activities, and the costs of delivering or adapting services, during or relating to the coronavirus pandemic. 2. Activities: intake, mediation and conciliation, litigation, brochure distribution. 3. Deliverables and expected outcomes: increase knowledge and awareness of housing discrimination from individuals to agencies/organizations. 4. Intended Beneficiary(ies): LEP populations, fair housing organizations, tenants and homeowners, landlords. 5. Subrecipient Activities: unknown.
Legal Aid Society of Hawaii | 924 Bethel Street | Honolulu | HI | 96813 | 350,000.00 | 1. Purpose: The ARP PEI provides relief funding to eligible PEI organizations to address fair housing inquiries, complaints, investigations, education and outreach activities, and the costs of delivering or adapting services, during or relating to the coronavirus pandemic. 2. Activities: distribute outreach materials, intake, litigation. 3. Deliverables and expected outcomes: 10 new complaints per quarter, file 5 complaints with HUD, conduct litigation hearings focused on the immigrant communities. 4. Intended Beneficiary(ies): immigrants. 5. Subrecipient Activities: unknown.
Intermountain Fair Housing Council, Inc | 4696 W. Overland Rd. Suite 140 | Boise | ID | 83705 | 124,993.00 | 1. Purpose: The ARP PEI provides relief funding to eligible PEI organizations to address fair housing inquiries, complaints, investigations, education and outreach activities, and the costs of delivering or adapting services, during or relating to the coronavirus pandemic. 2. Activities: intake interviews, training, fair housing testing. 3. Deliverables and expected outcomes: Conduct intake interviews, complaint referrals to HUD, and educate and recruit testers. 4. Intended Beneficiary(ies): Homeowners, Home buyers, tenants. 5. Subrecipient Activities: N/A.
Open Communities | 1880 Oak Ave, Suite 301 | Evanston | IL | 60201 | 218,353.00 | 1. Purpose: The ARP PEI provides relief funding to eligible PEI organizations to address fair housing inquiries, complaints, investigations, education and outreach activities, and the costs of delivering or adapting services, during or relating to the coronavirus pandemic. 2. Activities: ensure services are reaching those most impacted by COVID by conducting an Equity Audit that helps determine where the provision of enforcement activities is most needed. 3. Deliverables and expected outcomes: Provide education to the 44,000 persons residing in the norther suburbs of Chicago on fair housing laws. 4. Intended Beneficiary(ies): northern suburbs of Chicago. 5. Subrecipient Activities: unknown.
South Suburban Housing Center | 18220 Harwood Avenue, Suite 1 | Homewood | IL | 60430 | 350,000.00 | 1. Purpose: the ARP PEI provides relief funding to eligible PEI organizations to address fair housing inquiries, complaints, investigations, education and outreach activities, and the costs of delivering or adapting services, during or relating to the coronavirus pandemic. 2. Activities: intake, investigations, outreach through digital and social media platforms. 3. Deliverables and expected outcomes: assist 300 rental and mortgage distressed families, refer 34 housing provider complaints, conduct systemic investigations, reach 6,025,000 impressions. 4. Intended Beneficiary(ies): protected classes. 5. Subrecipient Activities: unknown.
The Board of Trustees of the University of Illinois | 809 S. Marshfield Avenue, MB 502, M/C 551 | Chicago | IL | 60612 | 348,986.00 | 1. Purpose: The ARP PEI provides relief funding to eligible PEI organizations to address fair housing inquiries, complaints, investigations, education and outreach activities, and the costs of delivering or adapting services, during or relating to the coronavirus pandemic. 2. Activities: fair housing enforcement and education and outreach activities. 3. Deliverables and expected outcomes: provide outreach to 30 community and fair housing organizations. 4. Intended Beneficiary(ies): targeting tenants, property owners, fair housing advocates, attorneys, mortgage counselors, and persons in the real estate industry including landlords, bankers, appraisers, lenders, and real estate and mortgage agents. 5. Subrecipient Activities: unknown.
H.O.P.E. Inc d/b/a HOPE Fair Housing Center | 202 W. Willow Ave., Suite 203 | Wheaton | IL | 60187 | 125,000.00 | 1. Purpose: The ARP PEI provides relief funding to eligible PEI organizations to address fair housing inquiries, complaints, investigations, education and outreach activities, and the costs of delivering or adapting services, during or relating to the coronavirus pandemic. 2. Activities: intake, investigations, advocacy/enforcement actions. 3. Deliverables and expected outcomes: improve software access to support staff interactions and facilitate client access, helping staff as they increase the amount of remote work needed to ensure services are available. 4. Intended Beneficiary(ies): protected classes. 5. Subrecipient Activities: unknown.
Fair Housing Center of Central Indiana, Inc | 445 N Pennsylvania St., Suite 811 | Indianapolis | IN | 46204 | 125,000.00 | 1. Purpose: The ARP PEI provides relief funding to eligible PEI organizations to address fair housing inquiries, complaints, investigations, education and outreach activities, and the costs of delivering or adapting services, during or relating to the coronavirus pandemic. 2. Activities: create an eviction and foreclosure web-based portal for court records, intake, investigations. 3. Deliverables and expected outcomes: conduct 1 joint fair housing investigation, open 4 new fair housing investigations. 4. Intended Beneficiary(ies): tenants, lenders, landlords. 5. Subrecipient Activities: unknown.
Suffolk University | 8 Ashburton Place | Boston | MA | 02108 | 349,966.30 | 1. Purpose: The ARP PEI provides relief funding to eligible PEI organizations to address fair housing inquiries, complaints, investigations, education and outreach activities, and the costs of delivering or adapting services, during or relating to the coronavirus pandemic. 2. Activities: testing, legal representation, education, and outreach utilizing PSA's and print materials. 3. Deliverables and expected outcomes: promote and educate Boston residents on fair housing laws and services. 4. Intended Beneficiary(ies): Greater Boston residents. 5. Subrecipient Activities: unknown.
Community Legal Aid, Inc | 405 Main Street | Worcester | MA | 01608 | 350,000.00 | 1. Purpose: The ARP PEI provides relief funding to eligible PEI organizations to address fair housing inquiries, complaints, investigations, education and outreach activities, and the costs of delivering or adapting services, during or relating to the coronavirus pandemic. 2. Activities: recruit and train testers, litigation, investigations, education, and outreach. 3. Deliverables and expected outcomes: provide education on the responsibilities of fair housing and investigate claims of housing discrimination. 4. Intended Beneficiary(ies): fair housing agencies, tenants, homeowners, ex-offenders. 5. Subrecipient Activities: unknown.
Legal Services of Eastern Michigan | 436 S. Saginaw Street, Suite 101 | Flint | MI | 48502 | 350,000.00 | 1. Purpose: The ARP PEI provides relief funding to eligible PEI organizations to address fair housing inquiries, complaints, investigations, education and outreach activities, and the costs of delivering or adapting services, during or relating to the coronavirus pandemic. 2. Activities: conducting fair housing education and outreach activities, address fair housing inquiries and conduct complaint investigations. 3. Deliverables and expected outcomes: Enhance the delivery of fair housing services. 4. Intended Beneficiary(ies): general public. 5. Subrecipient Activities: unknown.
Fair Housing Center of Southwest Michigan | 405 W Michigan Ave., Suite 6 | Kalamazoo | MI | 49007 | 124,974.00 | 1. Purpose: The ARP PEI provides relief funding to eligible PEI organizations to address fair housing inquiries, complaints, investigations, education and outreach activities, and the costs of delivering or adapting services, during or relating to the coronavirus pandemic. 2. Activities: address fair housing inquiries, conduct complaint investigations, and conduct education and outreach activities. 3. Deliverables and expected outcomes: expand the enforcement and outreach efforts and focus on combatting historic and modern practices of segregation exacerbated by the coronavirus pandemic. 4. Intended Beneficiary(ies): general public. 5. Subrecipient Activities: unknown.
Mid-Minnesota Legal Assistance | 430 First Avenue North, Suite 300 | Minneapolis | MN | 55401 | 350,000.00 | 1. Purpose: The ARP PEI provides relief funding to eligible PEI organizations to address fair housing inquiries, complaints, investigations, education and outreach activities, and the costs of delivering or adapting services, during or relating to the coronavirus pandemic. 2. Activities: conduct intake, investigations, and litigation. 3. Deliverables and expected outcomes: expand approach to community outreach and delivery of fair housing services. 4. Intended Beneficiary(ies): general population. 5. Subrecipient Activities: unknown.
Metropolitan St. Louis Equal Housing and Opportunity Council | 1027 S Vandeventer Ave., 6th Floor | St. Louis | MO | 63110 | 350,000.00 | 1. Purpose: the ARP PEI provides relief funding to eligible PEI organizations to address fair housing inquiries, complaints, investigations, education and outreach activities, and the costs of delivering or adapting services, during or relating to the coronavirus pandemic. 2. Activities: legal advice and representation, education and outreach activities, home search assistance. 3. Deliverables and expected outcomes: refer complaints to HUD, provide knowledge to protected classes on fair housing laws. 4. Intended Beneficiary(ies): tenants, landlords, low-income. 5. Subrecipient Activities: unknown.
Mississippi Center for Justice | 5 Old River Place, Suite 203 | Jackson | MS | 39202 | 350,000.00 | 1. Purpose: The ARP PEI provides relief funding to eligible PEI organizations to address fair housing inquiries, complaints, investigations, education and outreach activities, and the costs of delivering or adapting services, during or relating to the coronavirus pandemic. 2. Activities: conduct intake, testing, investigations, negotiations, and other enforcement services. 3. Deliverables and expected outcomes: identify and address acts of housing discrimination. 4. Intended Beneficiary(ies): protected classes. 5. Subrecipient Activities: unknown.
Legal Aid of North Carolina, Inc | 224 S. Dawson St. | Raleigh | NC | 27601 | 350,000.00 | 1. Purpose: The ARP PEI provides relief funding to eligible PEI organizations to address fair housing inquiries, complaints, investigations, education and outreach activities, and the costs of delivering or adapting services, during or relating to the coronavirus pandemic. 2. Activities: consulting, intake screenings, social media outreach. 3. Deliverables and expected outcomes: conduct 40 rental test screenings, develop outreach materials, and reach 50,000 impressions. 4. Intended Beneficiary(ies): protected classes, tenants, landlords. 5. Subrecipient Activities: HBCU to participate in material development/outreach activities.
High Plains Fair Housing Center | 406 Demers Road | Grand Forks | ND | 58201 | 75,000.00 | 1. Purpose: The ARP PEI provides relief funding to eligible PEI organizations to address fair housing inquiries, complaints, investigations, education and outreach activities, and the costs of delivering or adapting services, during or relating to the coronavirus pandemic. 2. Activities: distribution of fair housing educational materials and conduct fair housing testing and systemic investigations. 3. Deliverables and expected outcomes: perform outreach to 100 consumers. 4. Intended Beneficiary(ies): North Dakota residents. 5. Subrecipient Activities: unknown.
New Hampshire Legal Assistance | 117 North State Street | Concord | NH | 03301 | 333,907.00 | 1. Purpose: The ARP PEI provides relief funding to eligible PEI organizations to address fair housing inquiries, complaints, investigations, education and outreach activities, and the costs of delivering or adapting services, during or relating to the coronavirus pandemic. 2. Activities: education and outreach activities, enforcement. 3. Deliverables and expected outcomes: increase fair housing awareness. 4. Intended Beneficiary(ies): protected classes. 5. Subrecipient Activities: unknown.
Fair Housing Council of Northern New Jersey | 131 Main Street, Suite 140 | Hackensack | NJ | 07601 | 125,000.00 | 1. Purpose: the ARP PEI provides relief funding to eligible PEI organizations to address fair housing inquiries, complaints, investigations, education and outreach activities, and the costs of delivering or adapting services, during or relating to the coronavirus pandemic. 2. Activities: hold education and outreach with advocacy groups. 3. Deliverables and expected outcomes: unknown. 4. Intended Beneficiary(ies): disabled and elderly. 5. Subrecipient Activities: unknown.
Silver State Fair Housing Council | 110 W. Arroyo Street, Suite A | Reno | NV | 89509 | 125,000.00 | 1. Purpose: The ARP PEI provides relief funding to eligible PEI organizations to address fair housing inquiries, complaints, investigations, education and outreach activities, and the costs of delivering or adapting services, during or relating to the coronavirus pandemic. 2. Activities: conduct fair housing seminars, provide COVID related materials, conduct trainings and address fair housing inquiries. 3. Deliverables and expected outcomes: conduct fair housing tests to identify discrimination against individuals who are receiving, or have received, COVID-related housing assistance. 4. Intended Beneficiary(ies): disabled, families with children, LEP populations. 5. Subrecipient Activities: unknown.
CNY Fair Housing, Inc | 731 James Street, Suite 200 | Syracuse | NY | 13203 | 125,000.00 | 1. Purpose: The ARP PEI provides relief funding to eligible PEI organizations to address fair housing inquiries, complaints, investigations, education and outreach activities, and the costs of delivering or adapting services, during or relating to the coronavirus pandemic. 2. Activities: conduct intake, investigations, and counseling. 3. Deliverables and expected outcomes: expand systemic investigations. 4. Intended Beneficiary(ies): minorities. 5. Subrecipient Activities: unknown.
Housing Opportunities Made Equal, Inc | 1542 Main Street | Buffalo | NY | 14209 | 350,000.00 | 1. Purpose: The ARP PEI provides relief funding to eligible PEI organizations to address fair housing inquiries, complaints, investigations, education and outreach activities, and the costs of delivering or adapting services, during or relating to the coronavirus pandemic. 2. Activities: conduct testing, mediation, reasonable accommodation assistance, and systemic investigations. 3. Deliverables and expected outcomes: train testers, conduct fair lending investigations, conduct fair housing testing. 4. Intended Beneficiary(ies): protected classes. 5. Subrecipient Activities: unknown.
Legal Assistance of Western New York, Inc | 361 South Main | Geneva | NY | 14456 | 350,000.00 | 1. Purpose: The ARP PEI provides relief funding to eligible PEI organizations to address fair housing inquiries, complaints, investigations, education and outreach activities, and the costs of delivering or adapting services, during or relating to the coronavirus pandemic. 2. Activities: provide litigation support and educational services. 3. Deliverables and expected outcomes: assistance with case development; provide training. 4. Intended Beneficiary(ies): protected classes. 5. Subrecipient Activities: unknown.
Westchester Residential Opportunities, Inc | 470 Mamaroneck Avenue, Suite 410 | White Plains | NY | 10605 | 350,000.00 | 1. Purpose: The ARP PEI provides relief funding to eligible PEI organizations to address fair housing inquiries, complaints, investigations, education and outreach activities, and the costs of delivering or adapting services, during or relating to the coronavirus pandemic. 2. Activities: conduct intake, investigations, education, and outreach activities. 3. Deliverables and expected outcomes: conduct fair housing investigations, fair housing testing, and other enforcement-related activities; and provide education and outreach on fair housing rights and obligations to both housing providers, consumers, and other community organizations. 4. Intended Beneficiary(ies): protected classes. 5. Subrecipient Activities: unknown.
Fair Housing Justice Center, Inc | 30-30 Northern Blvd. Suite 302 | Long Island City | NY | 11101 | 350,000.00 | 1. Purpose: The ARP PEI provides relief funding to eligible PEI organizations to address fair housing inquiries, complaints, investigations, education and outreach activities, and the costs of delivering or adapting services, during or relating to the coronavirus pandemic. 2. Activities: outreach, marketing, intake, testing, enforcement. 3. Deliverables and expected outcomes: conduct a targeted outreach campaign to inform populations adversely impacted by the coronavirus pandemic about their fair housing rights; market FHJC's Adele Friedman Housing Accessibility Fund to eligible people with disabilities and provide expanded support for intake, testing, and enforcement activities to assist vulnerable populations most impacted by the coronavirus. 4. Intended Beneficiary(ies): protected classes. 5. Subrecipient Activities: unknown.
Long Island Housing Services, Inc | 640 Johnson Avenue | Bohemia | NY | 11716 | 350,000.00 | 1. Purpose: The ARP PEI provides relief funding to eligible PEI organizations to address fair housing inquiries, complaints, investigations, education and outreach activities, and the costs of delivering or adapting services, during or relating to the coronavirus pandemic. 2. Activities: conduct intake, investigations, testing activates. 3. Deliverables and expected outcomes: refer potential housing discrimination victims to HUD, FHAP, local enforcement agency or a private attorney. Screen, assess, intake and investigate fair housing claims for discriminatory eviction or foreclosure; and file individual housing discrimination allegations from protected class members denied housing choices related to the COVID-19 pandemic. 4. Intended Beneficiary(ies): protected classes. 5. Subrecipient Activities: unknown.
Brooklyn Legal Services | 105 Court Street | Brooklyn | NY | 11201 | 350,000.00 | 1. Purpose: The ARP PEI provides relief funding to eligible PEI organizations to address fair housing inquiries, complaints, investigations, education and outreach activities, and the costs of delivering or adapting services, during or relating to the coronavirus pandemic. 2. Activities: conduct intake, testing, education and outreach and systemic investigations. 3. Deliverables and expected outcomes: screen, investigate, and analyze complaints; conduct testing and analyze test results; refer meritorious housing discrimination complaints to federal, state, and city enforcement agencies; file affirmative enforcement litigation to redress systemic lending abuses and eliminate lending discrimination; and provide legal assistance to help homeowners avoid foreclosure and access affordable loan modifications. In addition, provide workshops to educate homeowners about illegal and unfair housing practices and foreclosure prevention. 4. Intended Beneficiary(ies): tenants, homeowners, landlords, lenders. 5. Subrecipient Activities: unknown.
Fair Housing Resource Center, Inc | 1100 Mentor Avenue | Painesville | OH | 44077 | 125,000.00 | 1. Purpose: The ARP PEI provides relief funding to eligible PEI organizations to address fair housing inquiries, complaints, investigations, education and outreach activities, and the costs of delivering or adapting services, during or relating to the coronavirus pandemic. 2. Activities: conduct intake, investigations and education and outreach activities. 3. Deliverables and expected outcomes: initiate audits to combat new practices put into place by housing providers during the coronavirus pandemic. In addition, create a Fair Housing Computer lab. 4. Intended Beneficiary(ies): Lake, Geauga, and Ashtabula County Ohio residents. 5. Subrecipient Activities: unknown.
Housing Research & Advocacy Center | 2728 Euclid Ave, Suite 200 | Cleveland | OH | 44115 | 125,000.00 | 1. Purpose: The ARP PEI provides relief funding to eligible PEI organizations to address fair housing inquiries, complaints, investigations, education and outreach activities, and the costs of delivering or adapting services, during or relating to the coronavirus pandemic. 2. Activities: conduct investigations, intake, and outreach. 3. Deliverables and expected outcomes: Conduct fair housing intake, perform fair housing audits, and referrals to community resources. 4. Intended Beneficiary(ies): Asian and Asian American communities. 5. Subrecipient Activities: unknown.
Fair Housing Opportunities of Northwest Ohio, Inc | 326 North Erie Street | Toledo | OH | 43604 | 349,983.00 | 1. Purpose: The ARP PEI provides relief funding to eligible PEI organizations to address fair housing inquiries, complaints, investigations, education and outreach activities, and the costs of delivering or adapting services, during or relating to the coronavirus pandemic. 2. Activities: conduct systemic investigations, intake, and outreach. 3. Deliverables and expected outcomes: increase intake and complaints submitted for referral to HUD or other enforcement agencies. 4. Intended Beneficiary(ies): minority communities, lenders, real estate. 5. Subrecipient Activities: unknown.
Housing Opportunities Made Equal of Greater Cincinnati, Inc | 2400 Reading Road Suite 118 | Cincinnati | OH | 45202 | 150,000.00 | 1. Purpose: The ARP PEI provides relief funding to eligible PEI organizations to address fair housing inquiries, complaints, investigations, education and outreach activities, and the costs of delivering or adapting services, during or relating to the coronavirus pandemic. 2. Activities: conduct intake screenings, and outreach. 3. Deliverables and expected outcomes: fair housing education, and complaint referrals. 4. Intended Beneficiary(ies): immigrants, minorities, housing agencies, tenants. 5. Subrecipient Activities: unknown.
Ohio State Legal Services Association | 1108 City Park Avenue | Columbus | OH | 43206 | 317,447.00 | 1. Purpose: The ARP PEI provides relief funding to eligible PEI organizations to address fair housing inquiries, complaints, investigations, education and outreach activities, and the costs of delivering or adapting services, during or relating to the coronavirus pandemic. 2. Activities: conduct intake, investigations, and educational activities. 3. Deliverables and expected outcomes: distribute resources to Community Action Agencies, screen potential discriminatory eviction cases, investigate alleged housing discrimination complaints, and conduct audit test. 4. Intended Beneficiary(ies): protected classes. 5. Subrecipient Activities: unknown.
Fair Housing Contact Service, Inc | 441 Wolf Ledges Parkway, Suite 200 | Akron | OH | 44311 | 125,000.00 | 1. Purpose: The ARP PEI provides relief funding to eligible PEI organizations to address fair housing inquiries, complaints, investigations, education and outreach activities, and the costs of delivering or adapting services, during or relating to the coronavirus pandemic. 3. Deliverables and expected outcomes: meet the increased need for fair housing services and knowledge during the pandemic. 4. Intended Beneficiary(ies): protected classes. 5. Subrecipient Activities: unknown
Fair Housing Rights Center in Southeastern Pennsylvania | 444 N. 3rd Street, Suite 110 | Philadelphia | PA | 19123 | 75,000.00 | 1. Purpose: The ARP PEI provides relief funding to eligible PEI organizations to address fair housing inquiries, complaints, investigations, education and outreach activities, and the costs of delivering or adapting services, during or relating to the coronavirus pandemic. 2. Activities: conduct fair housing intakes and education and outreach activities. 3. Deliverables and expected outcomes: investigate housing discrimination claims and educate the public on their fair housing rights and responsibilities 4. Intended Beneficiary(ies): protected classes. 5. Subrecipient Activities: unknown.
Fair Housing Partnership of Greater Pittsburgh | 2840 Liberty Avenue, Suite 205 | Pittsburgh | PA | 15222 | 125,000.00 | 1. Purpose: The ARP PEI provides relief funding to eligible PEI organizations to address fair housing inquiries, complaints, investigations, education and outreach activities, and the costs of delivering or adapting services, during or relating to the coronavirus pandemic. 2. Activities: REO investigations and intakes. 3. Deliverables and expected outcomes: develop REO investigations wherein the agency identifies and creates a COVID-19 specific investigation. 4. Intended Beneficiary(ies): homeowners. 5. Subrecipient Activities: unknown.
Northwest Fair Housing Alliance | 35 W. Main, Suite 250 | Spokane | WA | 99201 | 103,973.03 | 1. Purpose: The ARP PEI provides relief funding to eligible PEI organizations to address fair housing inquiries, complaints, investigations, education and outreach activities, and the costs of delivering or adapting services, during or relating to the coronavirus pandemic. 2. Activities: conduct intake, mediation, audits, and assist with reasonable accommodations. 3. Deliverables and expected outcomes: counseling individuals with fair housing allegations; assisting with mediations and reasonable accommodation requests related to COVID-19; conducting audit and complaint-based testing as needed to identify discrimination related to COVID-19; referring complaints to HUD; and providing fair housing trainings for agencies providing rental assistance and post-moratorium eviction resolution services. 4. Intended Beneficiary(ies): tenants, landlords, homeowners, mortgage lenders. 5. Subrecipient Activities: unknown.
Metropolitan Milwaukee Fair Housing Council | 759 North Milwaukee Street, Suite 500 | Milwaukee | WI | 53202 | 347,935.00 | 1. Purpose: The ARP PEI provides relief funding to eligible PEI organizations to address fair housing inquiries, complaints, investigations, education and outreach activities, and the costs of delivering or adapting services, during or relating to the coronavirus pandemic. 2. Activities: conduct outreach, systemic investigations, training. 3. Deliverables and expected outcomes: provide statewide outreach and education to those severely impacted by the COVID-19 pandemic to address housing discrimination and/or housing instability in Wisconsin and conduct an investigation into systemic forms of housing discrimination in MMFHC's service area to eliminate barriers for underserved populations and others most severely impacted by the COVID-19 pandemic. 4. Intended Beneficiary(ies): fair housing agencies, Wisconsin residents, tenants, lenders, underserved populations. 5. Subrecipient Activities: unknown.
Total |  |  |  |  | 13,642,336.88 |

Appendix D

FY2021 Fair Housing Initiatives Program (FHIP)—American Rescue Plan Private Enforcement Initiative (Round 2) (FR-6500-N-78C)

Contact: Stephanie W. Thomas (202) 402-6938

Organization name | Address | City | State | Zip code | Amount | Project description
West Tennessee Legal Services, Inc | 210 W. Main Street | Jackson | TN | 38301 | $350,000.00 | 1. Purpose: The ARP PEI provides relief funding to eligible PEI organizations to address fair housing inquiries, complaints, investigations, education and outreach activities, and the costs of delivering or adapting services, during or relating to the coronavirus pandemic. 2. Activities: interviewing potential victims of discrimination; taking complaints; testing; evaluating test results; conducting mediation; conciliating; enforcing meritorious claims through litigation or referral to administrative enforcement agencies; and disseminating information about Fair Housing Laws. 3. Deliverables and expected outcomes: Enhance the delivery of fair housing services within the targeted jurisdiction. 4. Intended Beneficiary(ies): general public. 5. Subrecipient Activities: unknown.
Fair Housing Council of Oregon | 1221 SW Yamhill St., #305 | Portland | OR | 97205 | 347,310.00 | 1. Purpose: The ARP PEI provides relief funding to eligible PEI organizations to address fair housing inquiries, complaints, investigations, education and outreach activities, and the costs of delivering or adapting services, during or relating to the coronavirus pandemic. 2. Activities: Identify and evaluate inquiries, and investigate allegations related to discriminatory evictions. 3. Deliverables and expected outcomes: Enhance the delivery of fair housing services within the targeted jurisdiction. 4. Intended Beneficiary(ies): general public, landlord/tenant, local and state housing entities. 5. Subrecipient Activities: N/A.
San Antonio Fair Housing Council, Inc | 4414 Centerview Drive, Suite 229 | San Antonio | TX | 78228 | 75,000.00 | 1. Purpose: The ARP PEI provides relief funding to eligible PEI organizations to address fair housing inquiries, complaints, investigations, education and outreach activities, and the costs of delivering or adapting services, during or relating to the coronavirus pandemic. 2. Activities: investigate and evaluate allegations of housing discrimination, provide housing counseling, conduct systemic housing discrimination investigations, and conduct rental tests. 3. Deliverables and expected outcomes: educate those most impacted by COVID about their rights under the Fair Housing Act; and enhance the delivery of fair housing services within the targeted jurisdiction. 4. Intended Beneficiary(ies): general public and Limited English Proficient (LEP) persons. 5. Subrecipient Activities: unknown.
Fair Housing Center of West Michigan | 20 Hall Street SE | Grand Rapids | MI | 49507 | 125,000.00 | 1. Purpose: The ARP PEI provides relief funding to eligible PEI organizations to address fair housing inquiries, complaints, investigations, education and outreach activities, and the costs of delivering or adapting services, during or relating to the coronavirus pandemic. 2. Activities: to identify, investigate and challenge illegal housing discrimination against underserved populations emerging or amplifying as a result of the pandemic, such as refusal to rent or lend to Housing Choice Voucher holders or those with other sources of income, discriminatory applicant screening, discriminatory evictions or foreclosures, redlining, reverse redlining, predatory lending, or other practices that may indicate disparate treatment. 3. Deliverables and expected outcomes: Enhance the delivery of fair housing services within the targeted jurisdiction. 4. Intended Beneficiary(ies): general public. 5. Subrecipient Activities: unknown.
Legal Aid Society of Palm Beach County, Inc | 423 Fern Street, Suite 200 | West Palm Beach | FL | 33401 | 500,000.00 | 1. Purpose: The ARP PEI provides relief funding to eligible PEI organizations to address fair housing inquiries, complaints, investigations, education and outreach activities, and the costs of delivering or adapting services, during or relating to the coronavirus pandemic. 2. Activities: educate those most impacted by COVID about their rights under the Fair Housing Act through workshops and outreach events. Additionally, conduct systemic investigations of alleged discrimination that is pervasive or institutional in nature. 3. Deliverables and expected outcomes: receive 50 fair housing intake cases, hold 5 workshops, conduct 8 education and outreach fair housing events, refer 10 complaints to HUD. 4. Intended Beneficiary(ies): persons with disabilities, general public, fair housing agencies. 5. Subrecipient Activities: unknown.
CSA San Diego County | 327 Van Houten Avenue | El Cajon | CA | 92020 | 125,000.00 | 1. Purpose: The ARP PEI provides relief funding to eligible PEI organizations to address fair housing inquiries, complaints, investigations, education and outreach activities, and the costs of delivering or adapting services, during or relating to the coronavirus pandemic. 2. Activities: intake and investigate allegations of discrimination, conduct rental tests and systemic investigations within the targeted. 3. Deliverables and expected outcomes: 80 rental tests, 8 systemic investigations, 6 site surveys, 80 fair housing intake complaints, 30 reasonable accommodation modifications. 4. Intended Beneficiary(ies): disabled, general public, homeowners, immigrants, LEP populations, minority communities. 5. Subrecipient Activities: unknown.
Lexington Fair Housing Council, Inc | 207 E Reynolds Rd., Suite 130 | Lexington | KY | 40517 | 75,000.00 | 1. Purpose: The ARP PEI provides relief funding to eligible PEI organizations to address fair housing inquiries, complaints, investigations, education and outreach activities, and the costs of delivering or adapting services, during or relating to the coronavirus pandemic. 2. Activities: Intake, fair housing investigations and education and outreach activities. 3. Deliverables and expected outcomes: increase intake that results in complaints filed with HUD. 4. Intended Beneficiary(ies): Kentucky residents. 5. Subrecipient Activities: unknown.
Legal Aid Services of Oklahoma, Inc | 2915 N. Classen Blvd | Oklahoma City | OK | 73106 | 350,000.00 | 1. Purpose: The ARP PEI provides relief funding to eligible PEI organizations to address fair housing inquiries, complaints, investigations, education and outreach activities, and the costs of delivering or adapting services, during or relating to the coronavirus pandemic. 2. Activities: intake, testing, mediation, and conciliation. 3. Deliverables and expected outcomes: Enhance the delivery of fair housing services within the targeted jurisdiction. 4. Intended Beneficiary(ies): minority individuals, low-income communities, Limited English Proficient (LEPP persons. 5. Subrecipient Activities: unknown.
Metro Fair Housing Services, Inc | 215 Lakewood Way SW, Suite 106 | Atlanta | GA | 30315-6022 | 125,000.00 | 1. Purpose: The ARP PEI provides relief funding to eligible PEI organizations to address fair housing inquiries, complaints, investigations, education and outreach activities, and the costs of delivering or adapting services, during or relating to the coronavirus pandemic. 2. Activities: conduct lending and disability testing; and investigations of eviction- and foreclosure-related housing discrimination. 3. Deliverables and expected outcomes: conduct test, increase information and knowledge on unfair housing evictions and foreclosure. 4. Intended Beneficiary(ies): minority communities, fair housing agencies, immigrants, disabled persons. 5. Subrecipient Activities: unknown.
Housing Opportunities Made Equal of Virginia, Inc | 626 East Broad Street, Suite 400 | Richmond | VA | 23219 | 350,000.00 | 1. Purpose: The ARP PEI provides relief funding to eligible PEI organizations to address fair housing inquiries, complaints, investigations, education and outreach activities, and the costs of delivering or adapting services, during or relating to the coronavirus pandemic. 2. Activities: investigations of COVID-related housing discrimination and educate those most impacted by COVID about their rights under the Fair Housing Act. 3. Deliverables and expected outcomes: Enhance the delivery of fair housing services within Virginia will access and information to combat housing discrimination. 4. Intended Beneficiary(ies): Virginia residents. 5. Subrecipient Activities: unknown.
South Coast Fair Housing, Inc | 721 County Street | New Bedford | MA | 02740 | 75,000.00 | 1. Purpose: The ARP PEI provides relief funding to eligible PEI organizations to address fair housing inquiries, complaints, investigations, education and outreach activities, and the costs of delivering or adapting services, during or relating to the coronavirus pandemic. 2. Activities: data tracking, education, and outreach. 3. Deliverables and expected outcomes: provided updated data on fair housing allegations to educate and increase housing opportunities. 4. Intended Beneficiary(ies): general public. 5. Subrecipient Activities: unknown.
Total |  |  |  |  | 2,497,310.00 |

Appendix E

FY2021 Fair Housing Initiatives Program (FHIP)-American Rescue Plan Private Enforcement Initiative (Round 3) (FR-6500-N-78C)

Contact: Stephanie W. Thomas (202) 402-6938

Organization name | Address | City | State | Zip code | Amount | Project description
Fair Housing Council of Suburban Philadelphia, Inc | 550 Pinetown Road, Suite 460 | Fort Washington | PA | 19034-2051 | $125,000.00 | 1. Purpose: The ARP PEI provides relief funding to eligible PEI organizations to address fair housing inquiries, complaints, investigations, education and outreach activities, and the costs of delivering or adapting services, during or relating to the coronavirus pandemic. 2. Activities to be performed: respond to increased volume of complaint inquires and allegations of discrimination during the coronavirus pandemic and reduce discrimination against protected classes in Greater Philadelphia and Lehigh Valley, PA. 3. Deliverables and expected outcomes: screen 200 complaint inquiries for housing discrimination; intake and process 100 allegations of housing discrimination; assist 15 people with disabilities requesting reasonable accommodation or modifications; and refer 20 complaints to HUD, DOJ, PHRC or private attorneys. 4. Intended beneficiary(ies): general public, tenants, and persons with disabilities. 5. Subrecipient Activities: N/A.
Total |  |  |  |  | 125,000.00 |

Appendix F

FY2021 Lead Hazard Reduction Grant Program (Round 1) (FR-6500-N-13)

Contact: Yolanda Brown (202) 402-7596.

Organization name | Street address or P.O. box | City | State | Zip code | Award amount and total | Project description
City of Phoenix | City of Phoenix Neighborhood Services Dept., 200 W Washington, 4th Floor | Phoenix | AZ | 85003 | $4,704,315.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
California Department of Public Health | Center for Healthy Communities, 1616 Capitol Avenue, MS 0500 | Sacramento | CA | 95814-5015 | 3,400,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Long Beach | 2525 Grand Avenue | Long Beach | CA | 90815 | 4,579,224.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Sacramento Housing and Redevelopment Agency | 801 12th Street | Sacramento | CA | 95814-0000 | 2,000,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
County of Fresno | 1221 Fulton Mall | Fresno | CA | 93721-3604 | 3,000,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Los Angeles County | 700 West Main Street | Alhambra | CA | 91801 | 5,700,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of New Britain | 27 W Main Street | New Britain | CT | 6051 | 5,600,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Dubuque | City Hall, 50 West 13th Street | Dubuque | IA | 52001 | 4,275,680.92 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Southwest Iowa Planning Council | 1501 SW 7th St | Atlantic | IA | 50022 | 1,400,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Polk County | 1907 Carpenter Avenue | Des Moines | IA | 50314 | 3,455,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Pocatello | P.O. Box 4169 | Pocatello | ID | 83205 | 2,648,197.28 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Springfield | 800 E Monroe Street Housing | Springfield | IL | 62701 | 3,400,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Cook County Department of Public Health | 15900 South Cicero Avenue | Oak Forest | IL | 60452 | 4,006,184.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of South Bend | 227 W Jefferson Blvd | South Bend | IN | 46601-3703 | 3,348,550.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Louisville-Jefferson County | 527 W Jefferson Street, Suite 400 | Louisville | KY | 40202 | 3,475,969.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Quincy | 1305 Hancock Street | Quincy | MA | 2169 | 2,915,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Malden Redevelopment Authority | 215 Pleasant Street | Malden | MA | 2148 | 3,100,715.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Auburn | 60 Court Street | Auburn | ME | 4210 | 3,400,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Flint | 1101 S Saginaw St | Flint | MI | 48502-1411 | 2,283,960.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Meramec Regional Planning Commission | 4 Industrial Drive | St. James | MO | 65559-1689 | 1,284,625.70 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Hattiesburg | 200 Forrest Street, P.O. Box 1898 | Hattiesburg | MS | 39403-1898 | 1,617,400.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
County of Westchester | 148 Martine Ave., Rm 414 | White Plains | NY | 10601 | 4,100,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
State of Ohio | Ohio Department of Health, 246 North High Street | Columbus | OH | 43215-2406 | 5,700,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Cleveland | 601 Lakeside Avenue, Room 320 | Cleveland | OH | 44114-1015 | 5,700,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Medford | Housing Community Development, 411 W 8th Street | Medford | OR | 97501-3105 | 2,140,542.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
County of Lawrence | 430 Court Street | New Castle | PA | 16101 | 5,700,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Bethlehem | 10 East Church Street | Bethlehem | PA | 18018-6025 | 2,242,507.13 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Reading | 815 Washington St | Reading | PA | 19601-3690 | 3,300,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Clarksville | 1 Public Sq., Ste 119 | Clarksville | TN | 37040-3463 | 2,879,918.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
County of Harris | 1001 Preston, Suite 900 | Houston | TX | 77002 | 4,700,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Danville | 427 Patton St., Suite 211 | Danville | VA | 24541 | 1,780,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Total |  |  |  |  | 107,837,788.03 |

Appendix G

FY2021 Lead Hazard Reduction Grant Program (Round 2) (FR-6500-N-13)

Contact: Yolanda Brown (202) 402-7596.

Organization name | Street address or P.O. box | City | State | Zip code | Award amount and total | Project description
City of Long Beach | 2525 Grand Avenue | Long Beach | CA | 90815 | $3,991,791.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Cleveland | 601 Lakeside Avenue, Room 320 | Cleveland | OH | 44114-1015 | 5,000,000.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
City of Clarksville | 1 Public Sq., Ste. 119 | Clarksville | TN | 37040-3463 | 2,879,918.00 | The purpose of the Lead-Based Paint Hazard Reduction (LHR) grant program is to maximize the number of children under the age of six protected from lead poisoning by assisting states, cities, counties/parishes, Native American Tribes or other units of local government in undertaking comprehensive programs to identify and control lead-based paint hazards in eligible privately-owned rental or owner-occupied housing populations. In addition, there are Healthy Homes Supplemental funding available that is intended to enhance the lead-based paint hazard control activities by comprehensively identifying and addressing other housing hazards that affect occupant health.
Total |  |  |  |  | 11,871,709.00 |

Appendix H

FY2021 Radon Testing and Mitigation Demonstration for Public Housing (FR-6500-N-80)

Contact: Brenda Reyes 202-402-6745.

Organization name | Street address or P.O. Box | City | State | Zip code | Award amount and total | Project description
Rockford Housing Authority | 223 S Winnebago St | Rockford | IL | 61102-2259 | $220,126.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Fort Wayne Housing Authority | 7315 Hanna Street, P.O. Box 13489 | Fort Wayne | IN | 46869-3489 | 190,324.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Rockville Housing Enterprises | 1300 Piccard Drive | Rockville | MD | 20850-1456 | 157,870.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: Not applicable.
Inkster Housing Authority | 4500 Inkster Road | Inkster | MI | 48141-3068 | 504,797.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Independence Housing Authority | 4215 S. Hocker Dr., Bldg. 5 | Independence | MO | 64055-3662 | 509,444.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Albany Housing Authority | 200 S Pearl St | Albany | NY | 12202-1834 | 600,000.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: Not applicable.
Cuyahoga Metropolitan Housing Authority | 8120 Kinsman Road | Cleveland | OH | 44104-4310 | 599,734.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Lebanon County Housing Authority | 1220 Mifflin Street | Lebanon | PA | 17046-3346 | 600,000.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Rock Hill Housing Authority | 467 S. Wilson Street | Rock Hill | SC | 29730-4444 | 600,000.00 | Purpose: The purpose of this NOFO is to provide funds to public housing agencies (PHAs) to conduct testing and as-needed mitigation of radon at their properties with Section 9 public housing. Activities to be Performed: Project activities will be limited to radon testing and/or mitigation and other directly related costs (e.g., notifying residents, managing radon data). Expected Outcomes: (i) Radon testing conducted in units. (ii) Radon mitigation conducted (when testing results are above the EPA action level of 4 pCi/L) and (iii) Proposed plan by the PHA for future testing and mitigation. Intended Beneficiaries: Residents of Section 9 Public Housing Agencies (PHAs) living in units where children can reside. Subrecipient Activities: The recipient does not intend to subaward funds.
Total |  |  |  |  | 3,982,295.00 |

Appendix I

FY2021 Older Adult Home Modification Grant Program (FR-6400-N-69)

Contact: Yolanda Brown (202) 402-7596.

Organization name | Street address or P.O. Box | City | ST | Zip Code | Award amount and total | Project description
Independent Living Resources of Greater Birmingham, Inc. dba | 1418 6th Ave. N. | Birmingham | AL | 35203 | $1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
DIRECT Center for Independence, Inc | 1001 N Alvernon Way | Tucson | AZ | 85711-1019 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Rebuilding Together, Inc | 999 N. Capitol Street NE, Suite 330 National Programs | Washington | DC | 20002-6096 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Florida Dream Center | 4017 56th Ave N. | St. Petersburg | FL | 33714 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
The Housing Authority of the City of Daytona Beach | 211 North Ridgewood Avenue | Daytona Beach | FL | 32114-3243 | 921,126.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
East Central Intergovernmental Association | 7600 Commerce Park | Dubuque | IA | 520029673 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
City of Dubuque | City Hall, 50 West 13th Street | Dubuque | IA | 52001 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Rush University Medical Center | 1653 W. Congress Pkwy | Chicago | IL | 60612 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Lake Cumberland Area Development District | Post Office Box 1570 2384 Lakeway Drive | Russell Springs | KY | 42642 | 740,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Memorial Hospital, Inc. DBA AdventHealth Manchester | 210 Marie Langdon Drive | Manchester | KY | 40962-6388 | 777,120.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
The St. Bernard Project, Inc | 2645 Toulouse St. | New Orleans | LA | 70119-1002 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Community Action Pioneer Valley | 393 Main Street | Greenfield | MA | 1301 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Green & Healthy Homes Initiative, Inc | 2714 Hudson St. | Baltimore | MD | 21224 | 650,231.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Harford County Health Department | 120 South Hays | Bel Air | MD | 21014 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Baltimore City | 417 E. Fayette Street | Baltimore | MD | 21202 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Maine State Housing Authority | 353 Water Street | Augusta | ME | 4330 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Disability Advocates of Kent County | 160 68th St SW | Grand Rapids | MI | 49548 | 975,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Twin Cities Habitat for Humanity, Inc | 1954 University Avenue West | St. Paul | MN | 55104-3426 | 836,781.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Independent Living Center of Mid-Missouri, Inc | 1401 Hathman Place | Columbia | MO | 65202 | 526,190.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Mission St. Louis | 3108 N. Grand Blvd | St. Louis | MO | 63107-2502 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Wayne County Action Program, Inc | 51 Broad Street | Lyons | NY | 14489-1122 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
United Way of Long Island | 819 Grand Blvd | Deer Park | NY | 11729-5703 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Rebuilding Together Saratoga County | 132 Milton Avenue | Ballston Spa | NY | 12020-1409 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Inglis Foundation | 2600 Belmont Avenue Self Determination Housing PA | Philadelphia | PA | 19131 | 767,778.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Scranton Neighborhood Housing Services Incorporated | 815 Smith Street | Scranton | PA | 18504-3150 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Rebuilding Together Philadelphia | 4355 Orchard St Suite 2R | Philadelphia | PA | 19124-4011 | 824,084.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
South Carolina Department on Aging | 1301 Gervais Street, Suite 350 | Columbia | SC | 29201-3448 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
SC UpLift Community Outreach | 5338 Ridgeway St | Columbia | SC | 29203-3547 | $1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Rebuilding Together San Antonio | P.O. Box 691881 | San Antonio | TX | 78269-1881 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Adult Youth United Development Association, Inc | 1325 Beverly Ann Dr | San Elizario | TX | 79849-8642 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Cathedral Square Corporation | 412 Farrell Street, Suite 100 | South Burlington | VT | 05403-4463 | 981,690.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Revitalize Milwaukee Inc | 840 N. Old World Third Street, Suite 600 | Milwaukee | WI | 53203-1704 | 1,000,000.00 | Purpose: Is to enable low-income elderly persons to remain in their homes through low-cost, low barrier, high impact home modifications to reduce older adults' risk of falling, improve general safety, increase accessibility, and to improve their functional abilities in their home. Activities to be Performed: Focus on low-cost, high-impact home modifications. Examples of these home modifications include installation of grab bars, railings, and lever-handled doorknobs and faucets, as well as the installation of adaptive equipment, such as temporary ramp, tub/shower transfer bench, handheld shower head, raised toilet seat, risers for chairs and sofas, and non-slip strips for tub/shower or stairs. Expected Outcomes: Is that older adults to remain in their homes, that is, to “age in place,” rather than move to nursing homes or other assisted care facilities by supporting their ability to live independently. Intended Beneficiaries: Low-income senior homeowners who are at least 62 years old. Subrecipient Activities: Build local capacity of trained and certified individuals and firms to address lead hazards safely and effectively during lead hazard control, and renovation, remodeling, and maintenance activities.
Total |  |  |  |  | $30,000,000.00 |

Appendix J

FY2021 Healthy Homes Production Grant Program (FR-6500-N-44)

Contact: Yolanda Brown (202) 402-7596

Organization name | Street address or P.O. Box | City | ST | Zip code | Award amount and total | Project description
Alaska Heat Smart | 4545 Thane Road, P.O. Box 20912 | Juneau | AK | 99801-7742 | $1,999,999.74 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside Subrecipient Activities: Build local capacity of trained and certified individuals and firms to address lead hazards safely and effectively during lead hazard control, and renovation, remodeling, and maintenance activities
Cold Climate Housing Research Center | 955 Draanjik Dr | Fairbanks | AK | 99775-8170 | 1,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Tlingit Haida Regional Housing Authority | 5446 Jenkins Drive | Juneau | AK | 99803 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside Subrecipient Activities: Build local capacity of trained and certified individuals and firms to address lead hazards safely and effectively during lead hazard control, and renovation, remodeling, and maintenance activities.
Alabama Department of Public Health | 201 Monroe Street RSA Tower, Suite 125 | Montgomery | AL | 36104-3017 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Community Service Programs of West Alabama, Inc | 601 Black Bears Way | Tuscaloosa | AL | 35401-4807 | 1,831,588.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
West Anniston Foundation | 800 Clydesdale Ave | Anniston | AL | 36201-5303 | 1,050,268.80 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Rebuilding Together Valley of the Sun | 1826 W Broadway Rd., #16 | Mesa | AZ | 85202-1133 | 1,035,558.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Pomona | 505 S. Garey Avenue, P.O. Box 660 | Pomona | CA | 91766-3322 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
International Center for Appropriate and Sustainable Technology | 7400 W. 14th Ave | Denver | CO | 80214-0000 | 1,999,919.52 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of New Haven | 54 Meadow Street 9th Floor | New Haven | CT | 6519 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Connecticut Children's Medical Center | 282 Washington Street | Hartford | CT | 06106-3322 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Rebuilding Together DC Alexandria | 3209 5th St SE | Washington | DC | 20032 | 1,601,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
New Castle County | 77 Reads Way | New Castle | DE | 19720-1648 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Tampa | 306 E. Jackson Street | Tampa | FL | 33602-5208 | 1,999,560.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Habitat for Humanity International, Inc | 322 W Lamar St | Americus | GA | 31709-3423 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Dubuque | City Hall, 50 West 13th Street | Dubuque | IA | 52001 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Sioux City | 405 6th Street | Sioux City | IA | 51102 | 1,503,643.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
County of Cerro Gordo | 2570 4th Street, SW | Mason City | IA | 50401-3435 | 1,306,240.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
East Central Intergovernmental Association | 7600 Commerce Park | Dubuque | IA | 52002-9673 | 1,950,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Visiting Nurse Services of Iowa, dba EveryStep | 3000 Easton Blvd. | Des Moines | IA | 50317-3124 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Kankakee | 200 E. Court Street, Suite 410 | Kankakee | IL | 60901 | 1,426,306.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Springfield | 800 E Monroe Street Housing | Springfield | IL | 62701 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Metec | 2605 W Krause Ave | Peoria | IL | 61605-2904 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Indiana Housing and Community Development Authority | 30 S Meridian St., Suite 900 | Indianapolis | IN | 46204-3566 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
New Orleans Area Habitat for Humanity | 2900 Elysian Fields Avenue | New Orleans | LA | 70122 | 1,694,522.56 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Malden Redevelopment Authority | 215 Pleasant Street | Malden | MA | 2148 | 1,678,177.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Revitalize Community Development Corporation | 1145 Main Street, Suite 107 | Springfield | MA | 01103-2152 | 1,400,164.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Enterprise Community Partners Columbia | 70 Corporate Center, 11000 Broken Land Parkway, Suite 700 | Columbia | MD | 21044-3535 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Green & Healthy Homes Initiative, Inc | 2714 Hudson St | Baltimore | MD | 21224 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Maryland Rural Development Corporation | P.O. Box 739 | Greensboro | MD | 21639-0739 | 1,175,563.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Detroit | 2 Woodward Ave Suite 908 | Detroit | MI | 48226 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Muskegon | 933 Terrace Street | Muskegon | MI | 49440-1397 | 1,500,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Habitat for Humanity of Michigan, Inc | 618 S Creyts Rd Suite A | Lansing | MI | 48917-8270 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Minneapolis | 250 S 4th St, Room 414 | Minneapolis | MN | 55417 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Hennepin County | 701 4th Ave S, Suite 400 | Minneapolis | MN | 55415 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
County of St. Louis | 500 Northwest Plaza, Suite 801 | St. Ann | MO | 63074 | 1,798,124.95 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Jefferson Franklin Community Action Corporation | P.O. Box 920 | Hillsboro | MO | 63050-0920 | 1,623,040.64 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Jackson | 219 South President Street | Jackson | MS | 39205-0017 | 1,581,981.13 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Omaha Healthy Kids Alliance | 1425 S 13 ST | Omaha | NE | 68108-3503 | 1,961,547.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Isles, Inc. | 10 Wood St. | Trenton | NJ | 08618-3921 | 1,176,164.81 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Morris Habitat for Humanity | 274 S. Salem Street | Randolph | NJ | 07869-1616 | 1,597,946.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Bishop Sheen Ecumenical Housing Foundation, Inc | 150 French Road | Rochester | NY | 14618-3822 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Chautauqua County | 3 N Erie St | Mayville | NY | 14757 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Home HeadQuarters, Inc | 538 Erie Blvd West Suite 100 | Syracuse | NY | 13204-2437 | 1,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Seneca Nation of Indians | 12837 Route 438 | Irving | NY | 14081 | 1,614,964.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Cleveland | 601 Lakeside Avenue Room 320 | Cleveland | OH | 44114-1015 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Columbus | 111 N. Front Street 8th Floor | Columbus | OH | 43215 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Lancaster | 104 East Main Street | Lancaster | OH | 43130-9998 | 1,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
County of Erie (OH) | 420 Superior Street | Sandusky | OH | 44870 | 1,000,800.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Mid-Ohio Regional Planning Commission | 111 Liberty St., Suite 100 | Columbus | OH | 43215-5850 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Rebuilding Together Northeast Ohio | 788 Donald Avenue | Akron | OH | 44306-3406 | 1,471,023.89 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Peoria Tribe of Indians of Oklahoma | P.O. Box 1527 | Miami | OK | 74354-1527 | 1,718,725.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Bethlehem | 10 East Church Street | Bethlehem | PA | 18018-6025 | 1,814,947.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Lancaster General Hospital | 555 North Duke Street | Lancaster | PA | 17604-3555 | 1,999,155.06 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Women for a Healthy Environment | 5877 Commerce Street | Pittsburgh | PA | 15206-3835 | 1,854,450.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
South Carolina Association of Community Action Partnerships | 2700 Middleburg Drive Suite 213 | Columbia | SC | 29204-2416 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Houston | 8000 N Stadium Drive, 2nd Fl | Houston | TX | 77054 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Salt Lake County | 2001 South State Street | Salt Lake City | UT | 84190-2770 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
City of Roanoke | 215 Church Ave, Room 208 North | Roanoke | VA | 24011 | 2,000,000.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities.
Elderhomes Corp dba project:HOMES | 88 Carnation Street | Richmond | VA | 23225 | 1,419,374.00 | Purpose: The Healthy Homes Production Program (HHP) enables grantees to address multiple housing-related hazards in a comprehensive fashion. Activities to be Performed: Demonstrate that providing safe and healthy environments where children and vulnerable residents live is feasible, affordable, and beneficial. Expected Outcomes: To help children and other vulnerable residents reach their full potential by preventing injuries and diseases, lowering healthcare costs, and improving their overall quality of life. Intended Beneficiaries: Children and older adults sixty-two (62) years and older, or families with persons with disabilities reside. Identify and remediate housing-related health and safety hazards in privately owned, low-income rental and/or owner-occupied housing, especially in units and/or buildings where families with children, older adults sixty-two (62) years and older, or families with persons with disabilities reside. Subrecipient Activities: Build local capacity of trained and certified individuals and firms to address lead hazards safely and effectively during lead hazard control, and renovation, remodeling, and maintenance activities
Total |  |  |  |  | $104,784,753.10 |

Appendix K

FY2021 Tribal VASH-Expansion (FR-6400-N-73)

Contact: Hilary Atkin, 202-402-3427.

Organization name | Address | City | State | Zip code | Award amount | Description of project
Cook Inlet Housing Authority | 3510 Spendard Road | Anchorage | AK | 99503 | $154,869 | This Tribal HUD-VASH Expansion grant has been awarded to Cook Inlet Housing Authority for $154,869. This grant will be used to provide rental assistance to approximately 10 Native American veterans, as well as administrative funding to support the program during the period of performance. Subrecipients and any subrecipient activities are unknown at the time of award.
Tohono O'odham Ki:Ki Housing Authority | P.O. Box 790 | Sells | AZ | 85634 | 500,304 | This Tribal HUD-VASH Expansion grant has been awarded to Tohono O'odham Ki:Ki Housing Authority for $500,304. This grant will be used to provide rental assistance to approximately 20 Native American veterans, as well as administrative funding to support the program during the period of performance. Subrecipients and any subrecipient activities are unknown at the time of award.
White Mountain Apache Housing Authority | 50 W Chinatown Street | Whiteriver | AZ | 85941 | 185,940 | This Tribal HUD-VASH Expansion grant has been awarded to White Mountain Apache Housing Authority for $185,940. This grant will be used to provide rental assistance to approximately 15 Native American veterans, as well as administrative funding to support the program during the period of performance. Subrecipients and any subrecipient activities are unknown at the time of award.
Total |  |  |  |  | $841,113 |

Appendix L

FY2022 Tribal HUD VASH Renewals (PIH Notice 2022-08)

Contact: Hilary Atkin, 202-402-3427.

Organization name | Address | City | State | Zip code | Amount | Description of project
Association of Village Council Presidents Regional Housing Authority | P.O. Box 767 | Bethel | AK | 99559 | $591,915.00 | The Tribal HUD-VA Supportive Housing program (Tribal HUD-VASH) provides rental assistance and supportive services to Native American veterans who are Homeless or At Risk of Homelessness living on or near a reservation or other Indian areas. This renewal grant has been awarded to AVCP RHA for $591,915. This renewal grant will be used to provide rental assistance to approximately 20 Native American veterans, as well as administrative funding to support the program, during the Fiscal Year (FY) 2022 renewal period ending September 30, 2023.
Cook Inlet Housing Authority | 3510 Spenard Road, Sutie 100 | Anchorage | AK | 99503 | 356,595.00 | The Tribal HUD-VA Supportive Housing program (Tribal HUD-VASH) provides rental assistance and supportive services to Native American veterans who are Homeless or At Risk of Homelessness living on or near a reservation or other Indian areas. This renewal grant has been awarded to Cook Inlet HA for $356,595. This renewal grant will be used to provide rental assistance to approximately 20 Native American veterans, as well as administrative funding to support the program, during the Fiscal Year (FY) 2022 renewal period ending September 30, 2023.
Tlingit-Haida Regional Housing Authority | 5446 Jenkins Drive | Juneau | AK | 99801 | 664,590.00 | The Tribal HUD-VA Supportive Housing program (Tribal HUD-VASH) provides rental assistance and supportive services to Native American veterans who are Homeless or At Risk of Homelessness living on or near a reservation or other Indian areas. This renewal grant has been awarded to Tlingit Haida Regional HA for $664,590. This renewal grant will be used to provide rental assistance to approximately 30 Native American veterans, as well as administrative funding to support the program, during the Fiscal Year (FY) 2022 renewal period ending September 30, 2023.
Leech Lake Housing Authority | 611 Elm Ave | Cass Lake | MN | 56633 | 218,415.00 | The Tribal HUD-VA Supportive Housing program (Tribal HUD-VASH) provides rental assistance and supportive services to Native American veterans who are Homeless or At Risk of Homelessness living on or near a reservation or other Indian areas. This renewal grant has been awarded to Leech Lake Housing Authority for $218,415. This renewal grant will be used to provide rental assistance to approximately 20 Native American veterans, as well as administrative funding to support the program, during the Fiscal Year (FY) 2022 renewal period ending September 30, 2023.
Lumbee Tribe of North Carolina | 6984 Highway 711 | Pembroke | NC | 28372 | 571,486.00 | The Tribal HUD-VA Supportive Housing program (Tribal HUD-VASH) provides rental assistance and supportive services to Native American veterans who are Homeless or At Risk of Homelessness living on or near a reservation or other Indian areas. This renewal grant has been awarded to Lumbee Tribe of North Carolina for $571,486. This renewal grant will be used to provide rental assistance to approximately 30 Native American veterans, as well as administrative funding to support the program, during the Fiscal Year (FY) 2022 renewal period ending September 30, 2023.
Oneida Nation | P.O. Box 68 | Oneida | WI | 54155 | 275,532.00 | The Tribal HUD-VA Supportive Housing program (Tribal HUD-VASH) provides rental assistance and supportive services to Native American veterans who are Homeless or At Risk of Homelessness living on or near a reservation or other Indian areas. This renewal grant has been awarded to Oneida Nation of Wisconsin for $275,532. This renewal grant will be used to provide rental assistance to approximately 20 Native American veterans, as well as administrative funding to support the program, during the Fiscal Year (FY) 2022 renewal period ending September 30, 2023.
White Earth Reservation Housing Authority | 3303 US Hwy 59 | Waubun | MN | 56589 | 249,525.00 | The Tribal HUD-VA Supportive Housing program (Tribal HUD-VASH) provides rental assistance and supportive services to Native American veterans who are Homeless or At Risk of Homelessness living on or near a reservation or other Indian areas. This renewal grant has been awarded to White Earth Housing Authority for $249,525. This renewal grant will be used to provide rental assistance to approximately 20 Native American veterans, as well as administrative funding to support the program, during the Fiscal Year (FY) 2022 renewal period ending September 30, 2023.
Apsaalooke Tribal Housing Authority | P.O. Box 99 | Crow Agency | MT | 59022 | 97,980.00 | The Tribal HUD-VA Supportive Housing program (Tribal HUD-VASH) provides rental assistance and supportive services to Native American veterans who are Homeless or At Risk of Homelessness living on or near a reservation or other Indian areas. This renewal grant has been awarded to Apsaalooke Housing Authority for $97,980. This renewal grant will be used to provide rental assistance to approximately 20 Native American veterans, as well as administrative funding to support the program, during the Fiscal Year (FY) 2022 renewal period ending September 30, 2023.
Blackfeet Housing Authority | P.O. Box 449 | Browning | MT | 59417 | 300,645.00 | The Tribal HUD-VA Supportive Housing program (Tribal HUD-VASH) provides rental assistance and supportive services to Native American veterans who are Homeless or At Risk of Homelessness living on or near a reservation or other Indian areas. This renewal grant has been awarded to Blackfeet Housing Authority for $300,645. This renewal grant will be used to provide rental assistance to approximately 20 Native American veterans, as well as administrative funding to support the program, during the Fiscal Year (FY) 2022 renewal period ending September 30, 2023.
Oglala Sioux (Lakota) Housing Authority | P.O. Box 603 | Pine Ridge | SD | 57770 | 262,860.00 | The Tribal HUD-VA Supportive Housing program (Tribal HUD-VASH) provides rental assistance and supportive services to Native American veterans who are Homeless or At Risk of Homelessness living on or near a reservation or other Indian areas. This renewal grant has been awarded to Oglala Sioux Lakota Housing for $262,860. This renewal grant will be used to provide rental assistance to approximately 20 Native American veterans, as well as administrative funding to support the program, during the Fiscal Year (FY) 2022 renewal period ending September 30, 2023.
Sicangu Wicoti Awayankapi Corporation (SWA) | P.O. Box 69 | Rosebud | SD | 57570 | 279,810.00 | The Tribal HUD-VA Supportive Housing program (Tribal HUD-VASH) provides rental assistance and supportive services to Native American veterans who are Homeless or At Risk of Homelessness living on or near a reservation or other Indian areas. This renewal grant has been awarded to Sicangu Wicoti Awayankapi Corporation for $279,810. This renewal grant will be used to provide rental assistance to approximately 20 Native American veterans, as well as administrative funding to support the program, during the Fiscal Year (FY) 2022 renewal period ending September 30, 2023.
Standing Rock Housing Authority | P.O. Box 769 | Fort Yates | ND | 58538-0769 | 207,975.00 | The Tribal HUD-VA Supportive Housing program (Tribal HUD-VASH) provides rental assistance and supportive services to Native American veterans who are Homeless or At Risk of Homelessness living on or near a reservation or other Indian areas. This renewal grant has been awarded to Standing Rock Housing Authority for $207,975. This renewal grant will be used to provide rental assistance to approximately 15 Native American veterans, as well as administrative funding to support the program, during the Fiscal Year (FY) 2022 renewal period ending September 30, 2023.
Turtle Mountain Housing Authority | P.O. Box 620 | Belcourt | ND | 58316 | 265,320.00 | The Tribal HUD-VA Supportive Housing program (Tribal HUD-VASH) provides rental assistance and supportive services to Native American veterans who are Homeless or At Risk of Homelessness living on or near a reservation or other Indian areas. This renewal grant has been awarded to Turtle Mountain Housing Authority for $265,320. This renewal grant will be used to provide rental assistance to approximately 20 Native American veterans, as well as administrative funding to support the program, during the Fiscal Year (FY) 2022 renewal period ending September 30, 2023.
Colville Indian Housing Authority | P.O. Box 528 | Nespelem | WA | 99155 | 290,055.00 | The Tribal HUD-VA Supportive Housing program (Tribal HUD-VASH) provides rental assistance and supportive services to Native American veterans who are Homeless or At Risk of Homelessness living on or near a reservation or other Indian areas. This renewal grant has been awarded to Colville Indian Housing Authority for $290,055. This renewal grant will be used to provide rental assistance to approximately 20 Native American veterans, as well as administrative funding to support the program, during the Fiscal Year (FY) 2022 renewal period ending September 30, 2023.
Fort Hall Housing Authority | 161 Wardance Circle | Pocatello | ID | 83202 | 165,270.00 | The Tribal HUD-VA Supportive Housing program (Tribal HUD-VASH) provides rental assistance and supportive services to Native American veterans who are Homeless or At Risk of Homelessness living on or near a reservation or other Indian areas. This renewal grant has been awarded to Fort Hall Housing Authority for $165,270. This renewal grant will be used to provide rental assistance to approximately 15 Native American veterans, as well as administrative funding to support the program, during the Fiscal Year (FY) 2022 renewal period ending September 30, 2023.
Spokane Indian Housing Authority | P.O. Box 195 | Wellpinit | WA | 99040 | 323,460.00 | The Tribal HUD-VA Supportive Housing program (Tribal HUD-VASH) provides rental assistance and supportive services to Native American veterans who are Homeless or At Risk of Homelessness living on or near a reservation or other Indian areas. This renewal grant has been awarded to Spokane Indian Housing Authority for $323,460. This renewal grant will be used to provide rental assistance to approximately 20 Native American veterans, as well as administrative funding to support the program, during the Fiscal Year (FY) 2022 renewal period ending September 30, 2023.
Warm Springs Housing Authority | P.O. Box 1167 | Warm Springs | OR | 97761 | 160,050.00 | The Tribal HUD-VA Supportive Housing program (Tribal HUD-VASH) provides rental assistance and supportive services to Native American veterans who are Homeless or At Risk of Homelessness living on or near a reservation or other Indian areas. This renewal grant has been awarded to Warm Springs Housing Authority for $160,050. This renewal grant will be used to provide rental assistance to approximately 10 Native American veterans, as well as administrative funding to support the program, during the Fiscal Year (FY) 2022 renewal period ending September 30, 2023.
Yakama Nation Housing Authority | 611 S Camas Avenue | Wapato | WA | 98951 | 289,650.00 | The Tribal HUD-VA Supportive Housing program (Tribal HUD-VASH) provides rental assistance and supportive services to Native American veterans who are Homeless or At Risk of Homelessness living on or near a reservation or other Indian areas. This renewal grant has been awarded to Yakama Nation Housing Authority for $289,650. This renewal grant will be used to provide rental assistance to approximately 20 Native American veterans, as well as administrative funding to support the program, during the Fiscal Year (FY) 2022 renewal period ending September 30, 2023.
Cherokee Nation | P.O. Box 1669 | Tahlequah | OK | 74465-1669 | 255,510.00 | The Tribal HUD-VA Supportive Housing program (Tribal HUD-VASH) provides rental assistance and supportive services to Native American veterans who are Homeless or At Risk of Homelessness living on or near a reservation or other Indian areas. This renewal grant has been awarded to Cherokee Nation for $255,510. This renewal grant will be used to provide rental assistance to approximately 20 Native American veterans, as well as administrative funding to support the program, during the Fiscal Year (FY) 2022 renewal period ending September 30, 2023.
Cheyenne-Arapaho Housing Authority | 2100 Dog Patch Road | Clinton | OK | 73601 | 363,810.00 | The Tribal HUD-VA Supportive Housing program (Tribal HUD-VASH) provides rental assistance and supportive services to Native American veterans who are Homeless or At Risk of Homelessness living on or near a reservation or other Indian areas. This renewal grant has been awarded to Cheyenne Arapaho Housing Authority for $363,810. This renewal grant will be used to provide rental assistance to approximately 20 Native American veterans, as well as administrative funding to support the program, during the Fiscal Year (FY) 2022 renewal period ending September 30, 2023.
Choctaw Nation Housing Authority | P.O. Box G 207 Jim Monroe Road | Hugo | OK | 74743 | 430,440.00 | The Tribal HUD-VA Supportive Housing program (Tribal HUD-VASH) provides rental assistance and supportive services to Native American veterans who are Homeless or At Risk of Homelessness living on or near a reservation or other Indian areas. This renewal grant has been awarded to Choctaw Nation Housing Authority for $430,440. This renewal grant will be used to provide rental assistance to approximately 20 Native American veterans, as well as administrative funding to support the program, during the Fiscal Year (FY) 2022 renewal period ending September 30, 2023.
Muscogee (Creek) Nation | P.O. Box 580 | Okmulgee | OK | 74447 | 696,600.00 | The Tribal HUD-VA Supportive Housing program (Tribal HUD-VASH) provides rental assistance and supportive services to Native American veterans who are Homeless or At Risk of Homelessness living on or near a reservation or other Indian areas. This renewal grant has been awarded to Muscogee (Creek) Nation for $696,600. This renewal grant will be used to provide rental assistance to approximately 50 Native American veterans, as well as administrative funding to support the program, during the Fiscal Year (FY) 2022 renewal period ending September 30, 2023.
Osage Nation | 627 Grandview | Pawhuska | OK | 74056 | 367,740.00 | The Tribal HUD-VA Supportive Housing program (Tribal HUD-VASH) provides rental assistance and supportive services to Native American veterans who are Homeless or At Risk of Homelessness living on or near a reservation or other Indian areas. This renewal grant has been awarded to Osage Nation for $367,740. This renewal grant will be used to provide rental assistance to approximately 20 Native American veterans, as well as administrative funding to support the program, during the Fiscal Year (FY) 2022 renewal period ending September 30, 2023.
Hopi Tribal Housing Authority | P.O. Box 906 | Polacca | AZ | 86042 | 245,040.00 | The Tribal HUD-VA Supportive Housing program (Tribal HUD-VASH) provides rental assistance and supportive services to Native American veterans who are Homeless or At Risk of Homelessness living on or near a reservation or other Indian areas. This renewal grant has been awarded to Hopi Housing Authority for $245,040. This renewal grant will be used to provide rental assistance to approximately 15 Native American veterans, as well as administrative funding to support the program, during the Fiscal Year (FY) 2022 renewal period ending September 30, 2023.
Navajo Housing Authority | P.O. Box 4980 | Window Rock | AZ | 86515 | 273,840.00 | The Tribal HUD-VA Supportive Housing program (Tribal HUD-VASH) provides rental assistance and supportive services to Native American veterans who are Homeless or At Risk of Homelessness living on or near a reservation or other Indian areas. This renewal grant has been awarded to Navajo Housing Authority for $273,840. This renewal grant will be used to provide rental assistance to approximately 20 Native American veterans, as well as administrative funding to support the program, during the Fiscal Year (FY) 2022 renewal period ending September 30, 2023.
San Carlos Apache Housing Authority | P.O. Box 740 | Peridot | AZ | 85542 | 287,025.00 | The Tribal HUD-VA Supportive Housing program (Tribal HUD-VASH) provides rental assistance and supportive services to Native American veterans who are Homeless or At Risk of Homelessness living on or near a reservation or other Indian areas. This renewal grant has been awarded to San Carlos HA for $287,025. This renewal grant will be used to provide rental assistance to approximately 15 Native American veterans, as well as administrative funding to support the program, during the Fiscal Year (FY) 2022 renewal period ending September 30, 2023.
Tohono O'odham—KIKI Association | P.O. Box 790 | Sells | AZ | 85634 | 580,920.00 | The Tribal HUD-VA Supportive Housing program (Tribal HUD-VASH) provides rental assistance and supportive services to Native American veterans who are Homeless or At Risk of Homelessness living on or near a reservation or other Indian areas. This renewal grant has been awarded to Tohono O'odham Ki:ki Housing Authority for $580,920. This renewal grant will be used to provide rental assistance to approximately 20 Native American veterans, as well as administrative funding to support the program, during the Fiscal Year (FY) 2022 renewal period ending September 30, 2023.
Zuni Housing Authority | P.O. Box 710 | Zuni | NM | 87327 | 165,810.00 | The Tribal HUD-VA Supportive Housing program (Tribal HUD-VASH) provides rental assistance and supportive services to Native American veterans who are Homeless or At Risk of Homelessness living on or near a reservation or other Indian areas. This renewal grant has been awarded to Zuni HA for $165,810. This renewal grant will be used to provide rental assistance to approximately 10 Native American veterans, as well as administrative funding to support the program, during the Fiscal Year (FY) 2022 renewal period ending September 30, 2023.
Total |  |  |  |  | 9,237,868.00 |

Appendix M

FY 2022 Public Housing Operating Fund Shortfall Funding Program (PIH Notice 2022-17)

Contact: shortfallfunding@hud.gov.

Organization name | Street address | City | State | Zip code | Award amount total | Project description
AL005—Phenix City Housing Authority | 200 16Th Street | Phenix City | AL | 36867 | $124,988.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL008—Selma Housing Authority | 444 Washington Street | Selma | AL | 36702 | 322,120.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL079—Housing Authority Of The Town Of Montevallo | 1204 Island Street | Montevallo | AL | 35115 | 90,774.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL111—Housing Authority Of The City Of Florala | 22765 5Th Ave | Florala | AL | 36442 | 20,303.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL147—Housing Authority Of The City Of Bridgeport | 603 6Th Street | Bridgeport | AL | 35740 | 54,107.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL153—Housing Authority Of The Town Of Parrish | 25 Bank Street | Parrish | AL | 35580 | 7,812.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL156—Housing Authority Of The City Of Brewton | 201 Washington Circle | Brewton | AL | 36426 | 18,928.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AL181—Evergreen Housing Authority | 203 Rabb Drive | Evergreen | AL | 36401 | 53,478.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AR037—Housing Authority Of The City Of Prescott | P.O. Box 119 | Prescott | AR | 71857 | 1,597.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AR042—Star City Housing Authority | 301 E Joslyn Avenue | Star City | AR | 71667 | 56,986.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AR047—Housing Authority Of The City Of Hoxie | 400 SW Maple | Hoxie | AR | 72433 | 48,538.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AR112—Housing Authority Of The City Of Marmaduke | 957 Lillian Boulevard | Marmaduke | AR | 72443 | 18,021.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AR146—Housing Authority Of The City Of Kensett | 405 E Wilbur D. Mills | Kensett | AR | 72082 | 8,161.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
AZ008—Winslow Public Housing Authority | 900 Henderson Square | Winslow | AZ | 86047 | 48,223.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CA001—Housing Authority Of The City & County Of Sf | 1815 Egbert Avenue | San Francisco | CA | 94124 | 95,046.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CA011—Housing Authority Of The County Contra Costa | 3133 Estudillo Street | Martinez | CA | 94553 | 2,327,481.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CA025—City Of Eureka Housing Authority | 735 W Everding Street | Eureka | CA | 95503 | 145,919.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CO030—Burlington Housing Authority | 944 Lowell Avenue | Burlington | CO | 80807 | 7,835.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CT003—Housing Authority Of The City Of Hartford | 180 John D. Wardlaw Way | Hartford | CT | 06106 | 652,558.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
CT035—Housing Authority Of The Town Of Seymour | 28 Smith Street | Seymour | CT | 06483 | 89,483.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
DE002—Dover Housing Authority | 76 Stevenson Drive | Dover | DE | 19901 | 239,662.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL011—Housing Authority Of The City Of Lakeland | 430 Hartsell Avenue | Lakeland | FL | 33815 | 342,323.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL017—Housing Authority Of The City Of Miami Beach | 200 Alton Road | Miami Beach | FL | 33139 | 211,446.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL024—Ormond Beach Housing Authority | 100 New Britain Ave | Ormond Beach | FL | 32174 | 9,155.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL032—Ocala Housing Authority | 1629 Nw 4Th Street | Ocala | FL | 34475 | 166,337.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL033—Seminole County Housing Authority | 662 Academy Place | Oviedo | FL | 32765 | 19,885.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL065—Macclenny Housing Authority | 402 E Stansell Avenue | Macclenny | FL | 32063 | 12,244.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
FL104—Pasco County Housing Authority | 36739 S R. 52, Suite 108 | Dade City | FL | 33525 | 425,312.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA064—Housing Authority Of The City Of Bainbridge | 108 South Sims Street | Bainbridge | GA | 39817 | 693,016.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA095—Housing Authority Of The City Of Newnan | 48 Ball Street | Newnan | GA | 30263 | 49,144.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA109—Housing Authority Of The City Of Newton | 51 Hilliard Street | Camilla | GA | 31730 | 36,622.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA118—Housing Authority Of The County Of Stewart | P.O. Box 327 | Lumpkin | GA | 31815 | 30,823.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA128—Housing Authority Of The City Of Thomson | 219 Pecan Avenue | Thomson | GA | 30824 | 150,806.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA174—Housing Authority Of The City Of Dahlonega | 90 Thompson Circle | Dahlonega | GA | 30533 | 18,117.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA186—Housing Authority Of The City Of Abbeville | 248 Barnes St | Abbeville | GA | 31001 | 5,630.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA214—Housing Authority Of The City Of Ellaville | Buena Vista | Ellaville | GA | 31806 | 16,335.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
GA239—Housing Authority Of The City Of Soperton | 700 Eastman Road | Soperton | GA | 30457 | 27,141.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IL025—Housing Authority Cook County | 175 W Jackson | Chicago | IL | 60604 | 510,523.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IL088—Housing Authority Of The County Of Wayne, Illinois | 303 N 1St Street | Fairfield | IL | 62837 | 4,356.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IL107—Housing Authority Of The City Of North Chicago, Il | 1440 Jackson Street | North Chicago | IL | 60064 | 25,424.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IN004—Delaware County Housing Authority | 2401 S Haddix Avenue | Muncie | IN | 47302 | 122,641.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IN015—Housing Authority Of South Bend | 501 Alonzo Watson Drive | South Bend | IN | 46601 | 1,548,904.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IN024—Rockport Housing Authority | 601 Washington Street | Rockport | IN | 47635 | 46,784.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IN031—Housing Authority City Of Bedford | 1305 K Street | Bedford | IN | 47421 | 95,941.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
IN034—Sullivan Housing Authority | 200 N Court Street | Sullivan | IN | 47882 | 45,568.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS023—Kinsley Housing Authority | 210 W 9Th Street | Kinsley | KS | 67547 | 16,202.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS029—Augusta Housing Authority | 620 Osage Street | Augusta | KS | 67010 | 144,976.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS057—Housing Authority Of Medicine Lodge | 200 S Cherry St | Medicine Lodge | KS | 67104 | 34,158.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS062—Chanute Housing Authority | 818 S Santa Fe Suite C | Chanute | KS | 66720 | 103,004.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS063—Manhattan Housing Authority | 300 No. 5Th Street | Manhattan | KS | 66502 | 199,879.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS069—Neodesha Housing Authority | 118 S Sixth St | Neodesha | KS | 66757 | 35,605.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS073—Newton Housing Authority | 105 W 9Th Street | Newton | KS | 67114 | 63,947.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS079—Howard Housing Authority | 134 E Washington #A | Howard | KS | 67349 | 30,612.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS105—Junction City Housing Authority | 1202 Country Club Ln | Junction City | KS | 66441 | 157,740.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KS155—Cherryvale Housing Authority | 621 W 4Th | Cherryvale | KS | 67335 | 13,071.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY010—Housing Authority Of Corbin | 1336 Madison Street | Corbin | KY | 40702 | 86,511.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY030—Housing Authority Of Murray | 716 Nash Drive | Murray | KY | 42071 | 191,944.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY044—Housing Authority Of Whitesburg | 4 Banks Street | Whitesburg | KY | 41858 | 53,320.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY059—Housing Authority Of Falmouth | 412 Beech Street | Falmouth | KY | 41040 | 110,339.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY067—Housing Authority Of Horse Cave | 990 N Dixie Street | Horse Cave | KY | 42749 | 37,782.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY070—Housing Authority Of Central City | 509 S 9Th Street | Central City | KY | 42330 | 26,586.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY079—Stanford Housing Authority | 100 Lacy Street | Stanford | KY | 40484 | 29,540.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY083—Housing Authority Of Hodgenville | 501 Miami Court | Hodgenville | KY | 42748 | 68,119.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY093—Housing Authority Of Morganfield | 703 Culver Drive | Morganfield | KY | 42437 | 137,423.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY094—Housing Authority Of Sturgis | 116 E Old Providence Road | Sturgis | KY | 42459 | 71,763.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY098—Housing Authority Of Owenton | 100 Gaines Village Drive | Owenton | KY | 40359 | 37,095.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY106—Housing Authority Of Owingsville | 180 Kendall Springs Avenue | Owingsville | KY | 40360 | 30,242.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
KY122—Housing Authority Of Beaver Dam | 3030 James Court | Beaver Dam | KY | 42320 | 52,155.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
LA027—Housing Authority Of New Iberia | 325 North Street | New Iberia | LA | 70560 | 113,906.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
LA238—Housing Authority Of City Of Covington | 303 W 33Rd Avenue | Covington | LA | 70433 | 16,235.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
ME009—Housing Authority City of Bangor | 161 Davis Road | Bangor | ME | 4401 | 741,463.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI031—Muskegon Heights Housing Commission | 615 E Hovey Avenue | Muskegon Heights | MI | 49444 | 516,810.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI046—Saint Joseph Housing Commission | 601 Port Street | St Joseph | MI | 49085 | 133,217.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI055—Livonia Housing Commission | 19300 Purlingbrook Street | Livonia | MI | 48152 | 169,988.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI066—Muskegon Housing Commission | 1080 Terrace | Muskegon | MI | 49442 | 75,398.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI069—Sturgis Housing Commission | 128 S Nottawa Street | Sturgis | MI | 49091 | 4,387.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI073—Grand Rapids Housing Commission | 1420 Fuller Avenue Se | Grand Rapids | MI | 49507 | 262,162.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI093—Rockford Housing Commission | 59 S Main Street | Rockford | MI | 49341 | 1,317.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MI168—Ingham County Housing Commission | 3882 Dobie Road | Okemos | MI | 48864 | 91,593.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN022—Hra of The Cityof Blue Earth, Minnesota | 220 E 7Th Street | Blue Earth | MN | 56013 | 10,112.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN038—Hra of St. Cloud, Minnesota | 1225 W Saint Germain | Saint Cloud | MN | 56301 | 98,368.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN047—Hra of Bagley, Minnesota | 516 Main Avenue N | Bagley | MN | 56621 | 16,484.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN052—Hra of Braham, Minnesota | 409 Central Drive W | Braham | MN | 55006 | 10,424.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN062—Hra of City of Delano, Minnesota | 125 5Th Street S | Delano | MN | 55328 | 13,316.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN090—Hra Of Red Wing, Minnesota | 428 W 5Th Street | Red Wing | MN | 55066 | 120,833.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN096—Hra Of Cook, Minnesota | 111 5Th Street Se | Cook | MN | 55723 | 25,901.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN101—Hra Of Mora, Minnesota | 820 Howe Ave | Mora | MN | 55051 | 65,695.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN176—Big Stone County Hra | 301 Nw First Street | Ortonville | MN | 56278 | 18,612.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN182—Stevens County Hra | 100 S Columbia Avenue | Morris | MN | 56267 | 31,296.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN188—Cass County Hra | Post Office Box 33 | Backus | MN | 56435 | 17,189.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MN208—Housing & Redevelopment Authority of Janesville | 106 E North Street | Janesville | MN | 56048 | 30,581.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MO073—Lawson Housing Authority | 517 N Doniphan St | Lawson | MO | 64062 | 9,787.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MO149—Housing Authority of The City of Rolla | 1440 Forum Drive | Rolla | MO | 65401 | 103,473.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MO156—Housing Authority of The City of Alton | 111 Walnut Street | Alton | MO | 65606 | 25,146.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MO209—Housing Authority of The City of Cabool | 6B Cedar Bluff Avenue | Cabool | MO | 65689 | 43,143.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MS004—The Housing Authority of The City of Meridian | 2425 E Street | Meridian | MS | 39302 | 58,351.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MS081—The Housing Authority of The City of Sardis | 321 Greenhill Circle | Sardis | MS | 38666 | 16,759.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
MT006—Richland County Housing Authority | 1032 6Th Street Sw | Sidney | MT | 59270 | 46,587.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NC035—Sanford Housing Authority | 1000 Carthage Street | Sanford | NC | 27330 | 185,697.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NC043—Troy Housing Authority | 408 S Main Street | Troy | NC | 27371 | 122,558.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NC060—Roxboro Housing Authority | 500 Mount Bethel Church Road | Roxboro | NC | 27573 | 175,734.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
ND003—Rolette County Housing Authority | 211 2Nd Ave Ne | Rolla | ND | 58367 | 51,981.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
ND058—Nelson County Housing Authority | 1405 1St Ave N | Grand Forks | ND | 58203 | 56,423.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NE123—Mccook Housing Authority | 502 Missouri Avenue Circle | Mccook | NE | 69001 | 5,971.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NH011—Berlin Housing Authority | 10 Serenity Circle | Berlin | NH | 3570 | 32,082.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NJ032—Rahway Housing Authority | 165 E Grand Avenue | Rahway | NJ | 7065 | 151,900.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NJ036—Guttenberg Housing Authority | 6900 Broadway | Guttenberg | NJ | 7093 | 20,246.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NJ037—Irvington Housing Authority | 101 Union Avenue | Irvington | NJ | 7111 | 1,510,637.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NJ049—Bridgeton Housing Authority | 110 E Commerce Street | Bridgeton | NJ | 8302 | 135,099.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NJ074—Penns Grove Housing Authority | Penn Towers South | Penns Grove | NJ | 8069 | 12,585.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NM047—Housing Authority of The Village of Chama | P.O. Box 695 | Chama | NM | 87520 | 14,826.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY023—Freeport Housing Authority | 240 S Main Street | Freeport | NY | 11520 | 648,428.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY026—North Tarrytown Housing Authority | 126 Valley Street | Sleepy Hollow | NY | 10591 | 164,794.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY030—Elmira Housing Authority | 737-D Reservoir St | Elmira | NY | 14905 | 187,846.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY044—Geneva Housing Authority | 41 Lewis St | Geneva | NY | 14456 | 45,348.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY056—Village of Spring Valley Housing Authority | 76 Gesner Drive | Spring Valley | NY | 10977 | 281,688.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY065—Norwich Housing Authority | 13 Brown St | Norwich | NY | 13815 | 47,812.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY082—Peekskill Housing Authority | 807 Main Street | Peekskill | NY | 10566 | 168,437.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY085—Village of Hempstead Ha | 260 Clinton Street | Hempstead | NY | 11550 | 377,846.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY144—Village of Great Neck Housing Authority | 700 Middle Neck Road | Great Neck | NY | 11023 | 83,963.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
NY414—West Carthage Housing Authority | 63 Madison St | Carthage | NY | 13619 | 49,264.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OH032—Hocking Metropolitan Housing Authority | 33601 Pine Ridge Dr. | Logan | OH | 43138 | 430,308.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OH062—Miami Metropolitian Housing Authority | 1695 Troy Sidney Road | Troy | OH | 45373 | 55,208.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK025—Housing Authority of The Town of Antlers | 225 Nw A Street | Antlers | OK | 74523 | 55,754.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK068—Housing Authority of The City of Haileyville | 816 2Nd St | Haileyville | OK | 74547 | 18,396.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK072—Housing Authority of The City of Hartshorne | 615 Wichita Avenue | Hartshorne | OK | 74547 | 58,883.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK075—Housing Authority of The City of Beggs | 201 S Choctaw St | Beggs | OK | 74421 | 85,312.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK089—Housing Authority of The City of Hobart | 329 S Lincoln Street | Hobart | OK | 73651 | 36,294.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK092—Housing Authority of The Town of Granite | 100 Locust, Unit 12 | Granite | OK | 73547 | 16,935.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK120—Housing Authority of The City of Yale | 600 Watson Dr. | Yale | OK | 74085 | 23,674.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OK147—Housing Authority of The Town of Lone Wolf | 901 Walker Circle | Lone Wolf | OK | 73655 | 14,934.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OR003—Housing Authority of Douglas County | 1000 West Stanton Street | Roseburg | OR | 97471 | 124,909.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
OR006—Housing Authority & Comm Svcs of Lane Co | 100 W 13Th Ave | Eugene | OR | 97401 | 210,298.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA005—Housing Authority of The City of Mckeesport | 2901 Brownlee Avenue | Mc Keesport | PA | 15132 | 603,449.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA007—Chester Housing Authority | 1111 Avenue Of The States | Chester | PA | 19013 | 917,416.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA041—The Housing Auth of The County of Mifflin | 141 S Pine Road | Lewistown | PA | 17044 | 29,304.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA051—Bucks County Housing Authority | 350 S Main Street | Doylestown | PA | 18901 | 465,649.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA056—Housing Authority of The City of Franklin | 1212 Chestnut Street | Franklin | PA | 16323 | 28,784.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
PA060—Housing Authority of The County of Northumberland | 50 Mahoning Street | Milton | PA | 17847 | 7,966.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI009—Johnston Housing Authority | 8 Forand Circle | Johnston | RI | 2919 | 77,625.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI010—Cumberland Housing Authority | 573 Mendon Road | Cumberland | RI | 2864 | 48,972.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI016—Coventry Housing Authority | 14 Manchester Circle | Coventry | RI | 2816 | 33,508.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI021—Jamestown Housing Authority | 45 Pemberton Avenue | Jamestown | RI | 2835 | 15,025.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI026—Narragansett Housing Authority | 25 5Th Avenue | Narragansett | RI | 2882 | 6,568.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
RI027—Tiverton Housing Authority | 99 Hancock Street | Tiverton | RI | 2878 | 19,635.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
SD019—Hot Springs Housing And Redevelopment Commission | 201 S River Street | Hot Springs | SD | 57747 | 218,672.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
SD034—Aberdeen Housing & Redevelopment Commission | 2222 3Rd Avenue Se | Aberdeen | SD | 57401 | 21,217.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN009—Union City Housing Authority | 1409 E Main Street | Union City | TN | 38261 | 56,318.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN034—Jellico Housing Authority | 120 Bacon Street | Jellico | TN | 37762 | 49,591.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN055—Harriman Housing Authority | 924 Sewanee Street | Harriman | TN | 37748 | 436,310.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN065—Maryville Housing Authority | 311 Atlantic Avenue | Maryville | TN | 37801 | 111,535.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN078—Oliver Springs Housing Authority | 113 Wagner Court | Oliver Springs | TN | 37840 | 148,037.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TN081—Erwin Housing Authority | 750 Carolina Avenue | Erwin | TN | 37650 | 2,628.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX012—Housing Authority of The City of Baytown | 1805 Cedar Bayou Road | Baytown | TX | 77520 | 72,482.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX156—Housing Authority Of Spearman | 201 S Brandt Street | Spearman | TX | 79081 | 20,157.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX157—Housing Authority Of Mclean | 711 North Wheeler | Mclean | TX | 79057 | 13,924.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX182—Housing Authority Of Rotan | P.O. Drawer J | Rotan | TX | 79546 | 28,158.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX194—Housing Authority Of Childress | 407 Avenue B Nw | Childress | TX | 79201 | 27,950.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX223—Housing Authority Of Newton | 103 Sartain | Newton | TX | 75966 | 86,220.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX266—Smithville Housing Authority | 100 Ken Blaschke Drive | Smithville | TX | 78957 | 50,492.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX339—Housing Authority Of Clifton | 608 N Avenue I | Clifton | TX | 76634 | 59,392.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX405—Housing Authority Of Hubbard | 640 Ne 7Th Street | Hubbard | TX | 76648 | 2,439.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX448—La Joya Housing Authority | 945 South Leo Avenue | La Joya | TX | 78560 | 44,098.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX455—Housing Authority City Of Odessa | 124 E 2Nd Street | Odessa | TX | 79761 | 9,233.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
TX457—Housing Authority Of Marshall | 1401 Poplar Street | Marshall | TX | 75670 | 5,630.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
VA016—Charlottesville Redev & Housing Authority | 500 S 1St Street | Charlottesville | VA | 22902 | 517,238.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
VA029—Cumberland Plateau Regional Housing Authority | 35 Fox Meadow Drive | Lebanon | VA | 24266 | 52,827.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
VA030—Marion Redevelopment & Housing Authority | 237 Miller Avenue | Marion | VA | 24354 | 256,828.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WA012—Ha City Of Kennewick | 1915 W 4Th Place | Kennewick | WA | 99336 | 106,469.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WA041—Ha Of Whatcom County | 208 Unity Street | Bellingham | WA | 98225 | 15,829.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI046—Richland Center Housing Authority | 701 W Seminary Street | Richland Center | WI | 53581 | 9,883.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI052—Housing Authority Of The City Of Cumberland | 1295 6Th Avenue | Cumberland | WI | 54829 | 47,896.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI057—Luck Housing Authority | 416 S 1St Street | Luck | WI | 54853 | 19,029.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI071—Grantsburg Housing Authority | 213 W Burnett Avenue | Grantsburg | WI | 54840 | 13,679.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI075—Pulaski Housing Authority | 430 S Saint Augustine Street, #14 | Pulaski | WI | 54162 | 47,497.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI090—Baraboo Community Development Authority | 920 10Th Street | Baraboo | WI | 53913 | 14,769.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI113—Housing Authority of The City of Oshkosh, Wi | 600 Merritt Avenue | Oshkosh | WI | 54902 | 140,388.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI166—Trempealeau County Housing Authority | 36358 Main Street | Whitehall | WI | 54773 | 32,533.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WI214—Dane County Housing Authority | 6000 Gisholt Drive | Monona | WI | 53713 | 508,901.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WV015—Housing Authority of The City of Beckley | 100 Beckwoods Drive | Beckley | WV | 25801 | 25,538.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
WV021—Housing Authority Of The City of St. Albans | 650 6Th Street | Saint Albans | WV | 25177 | 143,199.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.
Total |  |  |  |  | 25,000,000.00 | Purpose: Provide assistance for shortfalls in operating reserves. Activities to be Performed: Awardee must submit an improvement plan to HUD; improve financial performance by taking management actions; submit budgets and actuals to HUD on an annual and semi-annual basis. Deliverables and Expected Outcomes: Improvement plans; Budgets and actuals. Intended Beneficiaries: Public Housing Residents. Subrecipient Activities: This award has no sub-recipients.

Appendix N

FY2022 Mainstream Vouchers Grant (PIH Notice 2022-07)

Contact: Emily Warren, 202-402-7515.

Organization name | Street address | City | State | Zip code | Award amount | Project description
Housing Authority of the City of Conway | 335 South Mitchell Street | Conway | AR | 72034 | $19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Phoenix Housing Department | Neighborhood Improvement Hsg D 251 W Washington St., 4th Fl | Phoenix | AZ | 850031611 | 643,664.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City & County of San Francisco | 1815 Egbert Ave | San Francisco | CA | 94124 | 114,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Los Angeles | C.D.C. County Of Los Angeles 700 W Main Street | Alhambra | CA | 91801 | 101,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Sacramento Housing Authority | 801 12th Street | Sacramento | CA | 95814 | 108,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of San Mateo | 264 Harbor Blvd., Bldg. A | Belmont | CA | 94002 | 862,134.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of San Bernardino | 715 E Brier Drive | San Bernardino | CA | 924082841 | 186,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Monterey Hsg Auth | 123 Rico Street | Salinas | CA | 939070000 | 478,672.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Yolo | 147 W Main Street | Woodland | CA | 95776 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of County of Marin | 4020 Civic Center Drive | San Rafael | CA | 94903 | 88,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Berkeley Housing Authority | 1947 Center Street, 5th Floor | Berkeley | CA | 947040000 | 45,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Crescent City Hsg Auth | 235 “H” Street | Crescent City | CA | 95531 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
San Diego Housing Commission | 1122 Broadway, Suite 300 | San Diego | CA | 92101 | 855,426.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Santa Cruz County Hsg Auth | 2160 41St Ave | Capitola | CA | 95010 | 120,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Napa | 1115 Seminary Street P.O. Box 660 | Napa | CA | 945590660 | 37,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Santa Barbara | 808 Laguna St | Santa Barbara | CA | 931010000 | 615,380.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Pasadena | 646 N Fair Oaks Ave. Suite 202 | Pasadena | CA | 91103 | 37,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Inglewood | One Manchester Blvd, # 750 | Inglewood | CA | 90301 | 37,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Sonoma | 1440 Guerneville Road | Santa Rosa | CA | 954034107 | 115,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Humboldt Housing Authority | 735 West Everding Street | Eureka | CA | 955030000 | 37,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Santa Ana | 20 Civic Center Plaza P.O. Box 22030 | Santa Ana | CA | 92701 | 115,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Anaheim Housing Authority | 201 S Anaheim Blvd., Ste 200 | Anaheim | CA | 928050000 | 198,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of San Diego | 3989 Ruffin Road | San Diego | CA | 92123 | 115,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Vacaville | 40 Eldridge Avenue, Suites 1-5 | Vacaville | CA | 956870000 | 50,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Roseville | Economic & Community Services 311 Vernon St | Roseville | CA | 95678 | 110,712.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Solano Hsg Auth | Suite 5500 675 Texas St | Fairfield | CA | 94533 | 26,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Imperial Valley Housing Authority | 1401 D Street | Brawley | CA | 922270000 | 62,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Placer County Housing Authority | 11519 B Avenue | Auburn | CA | 95603 | 22,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Boulder Housing Partners | 4800 Broadway | Boulder | CO | 803040000 | 89,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Arvada Housing Authority | 8101 Ralston Road | Arvada | CO | 800020000 | 121,766.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Boulder County Housing Authority | 2040 14th Street P.O. Box 471 | Boulder | CO | 803060471 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Jefferson County Housing Authority | 7490 West 45th Avenue | Wheatridge | CO | 800330000 | 419,670.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Norwalk | 24 ½ Monroe Street | Norwalk | CT | 6856 | 188,709.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Danbury | 2 Mill Ridge Road P.O. Box 86 | Danbury | CT | 68100000 | 45,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Community Connections | 801 Pennsylvania Ave, Se 201 | Washington | DC | 20003 | 144,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Orlando Housing Authority | 390 North Bumby Avenue | Orlando | FL | 328030000 | 26,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Fort Lauderdale | 437 SW 4th Avenue | Fort Lauderdale | FL | 333150000 | 33,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Lakeland | P.O. Box 1009 430 S Hartsell Avenue | Lakeland | FL | 33815 | 218,178.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Miami Beach | 200 Alton Road | Miami Beach | FL | 331396742 | 37,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Cocoa | 828 Stone St | Cocoa | FL | 32922 | 26,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Pahokee Housing Authority | 465 Friend Terrace | Pahokee | FL | 334760000 | 123,870.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Seminole County Housing Authority | 662 Academy Place | Oviedo | FL | 32765 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Hialeah Housing Authority | 75 East 6th Street | Hialeah | FL | 330100000 | 723,506.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Homestead | 29355 South Federal Hwy | Homestead | FL | 33030 | 76,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Alachua County Housing Authority | 703 NE 1St Street | Gainesville | FL | 326015304 | 192,432.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Tallahassee Housing Authority | 2940 Grady Road | Tallahassee | FL | 323120000 | 98,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Clearwater Housing Authority | 908 Cleveland Street | Clearwater | FL | 33755 | 75,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Palm Beach County Housing Authority | 3432 W 45th Street | West Palm Beach | FL | 334070000 | 529,870.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Pasco County Housing Authority | 14517 Seventh Street | Dade City | FL | 33525 | 89,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Albany | P.O. Box 485 521 Pine Avenue | Albany | GA | 317020485 | 19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Georgia Residential Finance | 60 Executive Park South, NE Suite 250 | Atlanta | GA | 303292257 | 102,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Hawaii | Office Of Hsg & Comm Dev 1990 Kino'Ole St Suite 102 | Hilo | HI | 967200000 | 43,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Municipal Housing Agency of Council Bluffs | 505 South Sixth Street | Council Bluffs | IA | 515030000 | 32,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Eastern Iowa Regional Housing Authority | 7600 Commerce Park | Dubuque | IA | 520029673 | 46,647.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Idaho Housing And Finance Association | 565 W Myrtle Street P.O. Box 7899 | Boise | ID | 837071899 | 132,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Joliet | 6 South Broadway Street | Joliet | IL | 60436 | 556,837.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Jackson, Il | P.O. Box 1209 300 N 7th Street | Murphysboro | IL | 629660000 | 40,986.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Dupage Housing Authority | 711 East Roosevelt Road | Wheaton | IL | 601875646 | 371,466.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Lafayette | P.O. Box 6687 | Lafayette | IN | 479036687 | 68,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Indiana Housing And Community Development Au | 30 S Meridian St Suite 1000 | Indianapolis | IN | 46204 | 318,438.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Lawrence/Douglas County Housing Authority | 1600 Haskell Avenue | Lawrence | KS | 660440000 | 68,709.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Louisville Metro Housing Authority | 420 South Eighth Street | Louisville | KY | 40203 | 507,038.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Lexington | 300 New Circle Road | Lexington | KY | 40505 | 276,112.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bowling Green CDA | 707 E Main Avenue Post Office Box 430 | Bowling Green | KY | 421020430 | 90,758.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bossier Parish Section 8 | C/O Bossier Parish Sec 8 Hsg 3022 Old Minden Road, Ste 206 | Bossier City | LA | 71112 | 92,154.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Somerville Housing Authority | 30 Memorial Road | Somerville | MA | 2145 | 56,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Dedham Housing Authority | 163 Dedham Blvd | Dedham | MA | 20262511 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Falmouth Housing Authority | 115 Scranton Ave | Falmouth Town | MA | 25403598 | 50,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Mansfield Housing Authority | 22 Bicentennial Court | Mansfield Town | MA | 2048 | 26,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
The Bridge of Central Massachusetts | 4 Mann Street | Worcester | MA | 1602 | 178,088.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bridgewell | 471 Broadway | Lynnfield | MA | 1940 | 164,194.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Middlesex North Resources Center, Inc | 471 Broadway | Lynnfield | MA | 1940 | 132,210.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Department of Housing & Community Development | 100 Cambridge Street | Boston | MA | 2114 | 145,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Opprty Com of Montgomery Co | 10400 Detrick Avenue | Kensington | MD | 208952484 | 923,644.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of St. Mary's County, MD | 21155 Lexwood Drive Suite C | Lexington Park | MD | 20653 | 135,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Howard County Housing Commission | 9770 Patuxent Woods Drive Suite 100 | Columbia | MD | 21046 | 459,622.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Washington County | 319 E Antietam, Street 2nd Floor | Hagerstown | MD | 21740 | 86,728.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Cecil County Housing Agency | 200 Chesapeake Blvd., Suite 1800 | Elkton | MD | 21921 | 19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Carroll County Housing And Community Dev | 10 Distillery Drive, Suite 101 | Westminster | MD | 211575194 | 54,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Fort Fairfield Housing Authority | 18 Fields Lane | Fort Fairfield | ME | 4742 | 23,639.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Presque Isle Housing Authority | 58 Birch Street | Presque Isle | ME | 4769 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
The Housing Authority of the City of Westbroo | 30 Liza Harmon Drive | Westbrook | ME | 40924741 | 109,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Port Huron Housing Commission | 905 Seventh Street | Port Huron | MI | 480600000 | 92,001.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Ann Arbor Housing Commission | 727 Miller Avenue | Ann Arbor | MI | 481030000 | 125,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Grand Rapids Housing Commission | 1420 Fuller Ave Se | Grand Rapids | MI | 49507 | 123,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Services for Eaton County | P.O. Box 746 | Charlotte | MI | 48813 | 106,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Public Housing Agency of the City of St Paul | 555 North Wabasha, Suite 400 | St. Paul | MN | 551021017 | 434,745.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
PHA In And for the City of Minneapolis | 1001 Washington Ave North | Minneapolis | MN | 554011043 | 112,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HRA of Duluth, Minnesota | P.O. Box 16900 | Duluth | MN | 558160900 | 16,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HRA of Fergus Falls, Minnesota | 1151 Friberg Avenue | Fergus Falls | MN | 565372535 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HRA of Wadena, Minnesota | 222 Second Street Se | Wadena | MN | 564821327 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HRA of St. Cloud, Minnesota | 1225 West St. Germain | St. Cloud | MN | 56301 | 88,206.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Mankato EDA | P.O. Box 3368 | Mankato | MN | 560023368 | 120,564.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of St Louis Park, Minnesota | 5005 Minnetonka Blvd | St. Louis Park | MN | 554161785 | 97,994.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Dakota County CDA | 1228 Town Centre Drive | Eagan | MN | 55123 | 213,440.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Itasca County HRA | 1115 NW 4th St | Grand Rapids | MN | 55744 | 25,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Metropolitan Council | 390 Robert Street North | St. Paul | MN | 551011805 | 673,238.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Clay County HRA | P.O. Box 99 | Dilworth | MN | 565290099 | 155,741.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Morrison County HRA | County Courthouse 304 Second Street, Southeast | Little Falls | MN | 563450000 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Todd County HRA | 300 Linden Avenue South | Browerville | MN | 56438 | 51,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Douglas County HRA | 1224 N Nokomis Street P.O. Box 965 | Alexandria | MN | 563080000 | 42,242.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Rice County HRA | 320 NW 3rd Street, Suite 5 | Faribault | MN | 550210000 | 11,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Washington County HRA | 7645 Currell Boulevard | Woodbury | MN | 55125 | 19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Kansas City, Missouri | 3822 Summit | Kansas City | MO | 64106 | 341,646.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of St. Louis County | 8865 Natural Bridge | St. Louis | MO | 631210000 | 520,296.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Columbia, MO | 201 Switzler Street | Columbia | MO | 652034156 | 143,088.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Lincoln County Public Housing Agency | Lincoln County Pha 16 North Court | Bowling Green | MO | 633340000 | 76,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
St. Francois County Public Housing Agency | P.O. Box N | Park Hills | MO | 636010358 | 32,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Ripley County Public Housing Agency | 3019 Fair Street | Poplar Bluff | MO | 639010000 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Jasper County Public Housing Agency | P.O. Box 207 | Joplin | MO | 648020000 | 103,376.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Assistance Prog of St Charles County | 201 N Second Street Room 529 | St. Charles | MO | 63301 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Tennessee Valley Regional Housing Authority | P.O. Box 1329 | Corinth | MS | 388340000 | 144,860.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Mississippi Regional Housing Authority No. IV | P.O. Box 1051 | Columbus | MS | 397031051 | 61,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
The Housing Authority of the City of Jackson | 2747 Livingston Road P.O. Box 11327 | Jackson | MS | 392831327 | 238,546.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Missoula Housing Authority | 1235 34th Street | Missoula | MT | 598014933 | 33,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Wilson | 213 Broad Street P.O. Box 185 | Wilson | NC | 27894185 | 23,762.08 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Gastonia Housing Authority | 340 W Long Avenue P.O. Box 2398 | Gastonia | NC | 280532398 | 237,506.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Sandhills Community Action Program, Inc | 103 Saunders Street P.O. Box 937 | Carthage | NC | 28327 | 19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Cass County | 230 8th Ave West | West Fargo | ND | 580780000 | 56,894.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Williston | 1801—8th Avenue West, #50 | Williston | ND | 588010000 | 54,663.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Great Plains Housing Authority | 300 2nd St NE—200 | Jamestown | ND | 58401 | 161,821.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Grand Forks Housing Authority | 1405 1st Avenue North | Grand Forks | ND | 58203 | 274,177.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Fargo Housing And Redevelopment Authority | P.O. Box 430 | Fargo | ND | 581070430 | 264,376.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Minot Housing Authority | 108 East Burdick Expy | Minot | ND | 58701 | 48,025.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Stark County Housing Authority | 1149 West Villard P.O. Box 107 | Dickinson | ND | 586020107 | 53,140.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Douglas County Housing Authority | 5404 North 107th Plaza | Omaha | NE | 681340000 | 192,927.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Dover Housing Authority | 62 Whittier Street | Dover | NH | 3820 | 109,562.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Concord Housing Authority | 23 Green Street | Concord | NH | 3301 | 88,788.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Keene Housing Authority | 831 Court Street | Keene | NH | 3431 | 50,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Harbor Homes, Inc | 45 High Street | Nashua | NH | 3060 | 112,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
New Hampshire Housing Finance Agency | P.O. Box 5087 | Manchester | NH | 31085087 | 170,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority City of Jersey City | 400 U.S. Highway #1 | Jersey City | NJ | 73066731 | 568,277.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bayonne Housing Authority | 50 East 21St Street | Bayonne | NJ | 70023761 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Morris County Housing Authority | 99 Ketch Road | Morristown | NJ | 79603115 | 115,868.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Somerville Housing Authority | 25 End Avenue | Somerville | NJ | 88761800 | 93,979.84 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Manville Housing Authority | 325 Main Street | Manville | NJ | 88351009 | 6,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Gloucester County Housing Authority | 100 Pop Moylan Boulevard | Deptford | NJ | 80961907 | 365,666.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Santa Fe | 52 Camino De Jacobo | Santa Fe | NM | 87507 | 86,614.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Southern Nevada Regional Housing Authority | 340 North 11th St | Las Vegas | NV | 89104 | 637,902.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Utica Housing Authority | 509 Second Street | Utica | NY | 135010000 | 96,492.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Albany Housing Authority | 200 South Pearl | Albany | NY | 122020000 | 75,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Rochester Housing Authority | 675 West Main Street | Rochester | NY | 146110000 | 335,415.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Town of Islip Housing Authority | 963 Montauk Highway | Oakdale | NY | 117690000 | 35,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Glen Falls Housing Authority | Stichman Towers Jay Street | Glens Falls | NY | 128010000 | 87,704.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
NY Dept of Housing Preservation & Development | Dept Of Hsg Preservation & Dev 100 Gold Street Room 501 | New York | NY | 100380000 | 983,620.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Port Jervis CDA | 13-19 Jersey Ave, Erie Depot P.O. Box 1002 | Port Jervis | NY | 127710000 | 117,578.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Village of Kiryas Joel HA | 51 Forest Road Suite 360 | Monroe | NY | 109500000 | 145,700.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Cuyahoga Metropolitan Housing Authority | 8120 Kinsman Road | Cleveland | OH | 441040000 | 124,527.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Akron Metropolitan Housing Authority | 100 W Cedar Street | Akron | OH | 443070000 | 89,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Mansfield Metropolitan Housing Authority | P.O. Box 1029 150 Park Avenue West | Mansfield | OH | 449011029 | 39,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Lake Metropolitan Housing Authority | 189 First Street | Painesville | OH | 440770000 | 13,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Erie Metropolitan Housing Authority | 322 Warren Street | Sandusky | OH | 448700000 | 32,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Huron Metropolitan Housing Authority | P.O. Box 1029 150 Park Avenue West | Mansfield | OH | 449011029 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Portage Metropolitan Housing Authority | 2832 State Route 59 | Ravenna | OH | 442662741 | 316,713.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Crawford Metropolitan Housing Authority | P.O. Box 1029 | Mansfield | OH | 449011029 | 16,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Geauga Metropolitan Housing Authority | 385 Center Street | Chardon | OH | 440240000 | 6,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Knox Metropolitan Housing Authority | 201A West High Street | Mount Vernon | OH | 430500000 | 84,269.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Sandusky Metropolitan Housing Authority | 1358 Mosser Drive | Fremont | OH | 434200000 | 23,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Seneca Metropolitan Housing Authority | P.O. Box 1029 150 Park Avenue West | Mansfield | OH | 449011029 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Marietta | 304 Putnam Street | Marietta | OH | 457500000 | 32,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Emerald Development And Economic Network | 7812 Madison Avenue | Cleveland | OH | 44102 | 185,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Clackamas County | P.O. Box 1510 | Oregon City | OR | 970450510 | 107,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority & Comm Svcs of Lane Co | 177 Day Island Rd | Eugene | OR | 974010000 | 75,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Salem | 360 Church St SE | Salem | OR | 97301 | 96,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Washington County | 111 NE Lincoln St Suite 200-L, Ms63 | Hillsboro | OR | 971240000 | 390,798.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Mid-Columbia Housing Authority | 500 E 2nd St | The Dalles | OR | 970580000 | 64,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Allegheny County Housing Authority | 625 Stanwix St, 12th Floor | Pittsburgh | PA | 15222 | 334,146.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority County of Delaware | 1855 Constitution Avenue P.O. Box 100 | Woodlyn | PA | 190940000 | 292,835.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Franklin | 436 West Washington Street | Chambersburg | PA | 17201 | 48,733.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Jefferson | 201 N Jefferson Street | Punxsutawney | PA | 15767 | 16,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Clarion | 8 West Main Street | Clarion | PA | 16214 | 128,122.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority Providence | 100 Broad St | Providence | RI | 29030000 | 70,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Municipality of Vega Baja | P.O. Box 4555 | Vega Baja | RQ | 6944555 | 20,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Municipality of Fajardo | P.O. Box 1049 | Fajardo | RQ | 7380000 | 19,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Beaufort | P.O. Box 1104 1009 Prince St | Beaufort | SC | 299011104 | 102,484.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Memphis Housing Authority | P.O. Box 3664 | Memphis | TN | 381033664 | 129,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Murfreesboro Housing Authority | 415 North Maple Street | Murfreesboro | TN | 371300000 | 107,988.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Austin Housing Authority | P.O. Box 41119 | Austin | TX | 78704 | 219,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Houston Housing Authority | 2640 Fountain View | Houston | TX | 77057 | 787,810.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Brownsville Housing Authority | P.O. Box 4420 | Brownsville | TX | 785234420 | 164,095.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Texarkana | 1611 N Robison Rd | Texarkana | TX | 75501 | 88,010.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
McKinney Housing Authority | 603 N Tennessee St | Mc Kinney | TX | 75069 | 112,789.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Denton Housing Authority | 1225 Wilson Street | Denton | TX | 762056352 | 490,461.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Tarrant County Housing Assistance Office | 2100 Circle Dr., Suite 200 | Fort Worth | TX | 76119 | 376,864.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Arlington Housing Authority | 501 W Sanford, Suite 20 | Arlington | TX | 760110231 | 328,944.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
City of Mesquite Housing Office | 1515 N Galloway P.O. Box 850137 | Mesquite | TX | 751850137 | 291,384.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bexar County Housing Authority | 1017 N Main Ave., Suite 201 | San Antonio | TX | 78212 | 267,613.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Travis County Housing Authority | P.O. Box 1527 | Austin | TX | 787670000 | 133,125.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Rosenberg | 117 Lane Drive, Suite 18 | Rosenberg | TX | 774710000 | 115,752.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Ogden | 1100 Grant Ave | Ogden | UT | 84404 | 319,426.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the County of Salt Lake | 3595 S Main Street | Salt Lake City | UT | 841154434 | 415,890.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Provo | 650 West 100 North | Provo | UT | 846012632 | 98,113.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
St. George Housing Authority | 975 N 1725 W, #101 | St. George | UT | 847704963 | 37,588.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Weber Housing Authority | 2661 Washington Blvd | Ogden | UT | 844011340 | 112,919.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Cedar City Housing Authority | 364 South 100 East | Cedar City | UT | 847200000 | 43,671.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Danville Redevelopment & Housing Authority | P.O. Box 1476 | Danville | VA | 24543 | 92,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Chesapeake Redevelopment & Housing Authority | 1468 S Military Highway | Chesapeake | VA | 233271304 | 266,670.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Lynchburg Redevelopment & Housing Authority | P.O. Box 1298 918 Commerce Street | Lynchburg | VA | 245050000 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Harrisonburg Redevelopment & Housing Authority | P.O. Box 1071 286 Kelley Street | Harrisonburg | VA | 22801 | 49,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Fairfax County Redevelopment & Hsg Authority | 3700 Pender Drive Suite 300 | Fairfax | VA | 22030 | 441,684.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
County of Albemarle/Office of Housing | 1600 5th Street, Suite B | Charlottesville | VA | 22902 | 81,559.20 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
People Inc. of Southwest Virginia | 1173 West Main St | Abingdon | VA | 24210 | 31,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Bennington Housing Authority | 22 Willibrook Drive | Bennington | VT | 05201 | 26,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Vermont State Housing Authority | One Prospect Street | Montpelier | VT | 56023556 | 437,484.40 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Seattle Housing Authority | 120 Sixth Avenue North, P.O. Box 19028 | Seattle | WA | 981091028 | 711,348.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA of King County | 600 Andover Park West | Seattle | WA | 981882583 | 1,141,450.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA City of Tacoma | 902 South “L” Street, Suite 2C | Tacoma | WA | 984050000 | 39,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA City of Everett | 3107 Colby Ave., P.O. Box 1547 | Everett | WA | 982061547 | 76,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Vancouver | 2500 Main Street, #200 | Vancouver | WA | 986602697 | 166,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Columbia Gorge Housing Authority | 500 E 2nd St | The Dalles | WA | 97058 | 39,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of Snohomish County | 12711 4th Ave W | Everett | WA | 982040000 | 135,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA City of Yakima | 810 N 6th Ave | Yakima | WA | 989020000 | 57,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA of Thurston County | 1206 12th Avenue Se | Olympia | WA | 98501 | 359,719.60 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
HA City of Spokane | 25 W Nora Ave | Spokane | WA | 99205 | 114,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Sauk County Housing Authority | 1211 Eighth Street | Baraboo | WI | 539130000 | 23,000.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Dane County Housing Authority | 6000 Gisholt Dr., #203 | Monona | WI | 537133707 | 76,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Parkersburg | 1901 Cameron Avenue | Parkersburg | WV | 26101 | 12,500.00 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Housing Authority of the City of Fairmont | 103 12th Street, P.O. Box 2738 | Fairmont | WV | 265552738 | 208,918.80 | The purpose of the Mainstream vouchers and extraordinary administrative fees awarded through 2022-07 is to assist non-elderly disabled households with housing assistance and provide PHAs with additional resources to help households successfully use their voucher. The awardees will provide a Mainstream voucher to non-elderly disabled households and use extraordinary administrative fees for regular administrative expenses for Mainstream and/or costs related to the retention, recruitment, and support of participating owners in the form of security deposits, signing bonuses, vacancy payments, and damage mitigation. Expected outcomes are vouchers for Mainstream-eligible households and successful leasing. The intended beneficiaries are non-elderly disabled households. There are no subrecipient activities.
Total |  |  |  |  | 36,022,633.72 |

Appendix O

FY2021 Indian Housing Block Grant: IHBG Program (FR-6500-N-48)

Contact: Hilary Atkin, 202-402-3427.

Organization | Address | City | State | Zip code | Award amount | Project description
All Mission Indian Housing Authority | 27368 Via Industria, Suite 113 | Temecula | CA | 92590 | $3,250,000 | The All Mission Indian Housing Authority will use the grant ($3,250,000) and $1,116,098 of leveraged funds to build ten (10) homeowner units on five different Reservations (La Jolla Band of Luiseno Indians, Pauma Band of Mission Indians, Viejas Band of Kumeyaay Indians, Cahuilla Band of Indians, and Santa Rosa Band of Cahuilla Indians). The beneficiaries will be low and moderate income Ameri can Indian and Alaska Native families. Sub-recipient activities are unknown at the time of the award. Anticipated Outcome(s): Increase the number of housing units available to AIAN families, which are also energy efficient (10 new homeowner units).
Cherokee Nation | P.O. Box 1669 | Tahlequah | OK | 74465-1669 | 5,000,000 | The Cherokee Nation will use the grant ($5,000,000) and $1,666,667 of leveraged funds to build 39 homeowner units. Anticipated Outcome(s): Increase the number of housing units available to AIAN families (39 new homeowner units). The beneficiaries will be low and moderate income Ameri can Indian and Alaska Native families. Sub-recipient activities are unknown at the time of the award.
Cheyenne River Housing Authority | 401 Owhe Nupa Drive | Eagle Butte | SD | 57625 | 3,977,662 | The Cheyenne River Housing Authority will use the grant ($3,977,662) and $1,325,888 of leveraged funds to build 24 rental units in Eagle Butte, South Dakota. Anticipated Outcome(s): Increase the number of housing units available to AIAN families, which are also energy efficient (24 new rental units). The beneficiaries will be low and moderate income Ameri can Indian and Alaska Native families. Sub-recipient activities are unknown at the time of the award.
Chippewa Cree Tribe | 96 Clinic Road N | Box Elder | MT | 59521-8849 | 5,000,000 | The Chippewa Cree Tribe will use the grant ($5,000,000) and $1,670,457 of leveraged funds to build 24 homeowner units on the Rocky Boy's Indian Reservation. Anticipated Outcome(s): Increase the number of housing units available to AIAN families (24 new homeowner units). The beneficiaries will be low and moderate income Ameri can Indian and Alaska Native families. Sub-recipient activities are unknown at the time of the award.
Cook Inlet Housing Authority | 3510 Spenard Rd | Anchorage | AK | 99503-3777 | 5,000,000 | The Cook Inlet Housing Authority will use the grant ($5,000,000) and $1,770,822 of leveraged funds to build 89 new units. Anticipated Outcome(s): Add 38 family units and 51 units for chronically homeless elders and individuals who qualify for permanent supportive housing. The beneficiaries will be low and moderate income American Indian and Alaska Native families. Sub-recipient activities are unknown at the time of the award.
Dry Creek Rancheria Band of Pomo Indians | P.O. Box 607 | Geyserville | CA | 95441-0607 | 5,000,000 | The Dry Creek Rancheria Band of Pomo Indians will use the grant ($5,000,000) and $1,683,042 of leveraged funds to build 11 single family affordable housing units The Dry Creek Rancheria Band of Pomo Indians will use the grant ($5,000,000) and $1,683,042 of leveraged funds to build 11 single family affordable housing units. Anticipated Outcome(s): Increase the number of housing units available by 11 affordable housing units for low-income elderly tribal members and tribal members with disabilities. Sub-recipient activities are unknown at the time of the award.
Fort Belknap Housing Authority | 668 Agency Main St | Harlem | MT | 59526-9455 | 5,000,000 | The Fort Belknap Housing Authority will use the grant ($5,000,000) and $1,670,000 of leveraged funds to build 15 homeowner units on the Fort Belknap Indian Reservation. Anticipated Outcome(s): Increase the number of housing units available to AIAN families (15 new homeowner units). The beneficiaries will be low and moderate income Ameri can Indian and Alaska Native families. Sub-recipient activities are unknown at the time of the award.
Fort Peck Housing Authority | P.O. Box 667 | Poplar | MT | 59255-0667 | 5,000,000 | The Fort Peck Housing Authority will use the grant ($5,000,000) and $1,670,000 of leveraged funds to construct 29 housing units. Anticipated Outcome(s): Increase the number of housing units available to AIAN families (17 new rental units and 12 new homeownership units). The beneficiaries will be low and moderate income Ameri can Indian and Alaska Native families. Sub-recipient activities are unknown at the time of the award.
Grand Traverse Band of Ottawa and Chippewa Indians | 2605 N West Bay Shore Drive | Peshawbestown | MI |  | 5,000,000 | The Grand Traverse Band of Ottawa and Chippewa Indians will use the grant ($5,000,000) and $1,700,000 of leveraged funds to build 20 rental units around Traverse City, Michigan, and to construct roads to these new units. Anticipated Outcome(s): Increase the number of housing units available to AIAN families (20 new rental units). The beneficiaries will be low and moderate income Ameri can Indian and Alaska Native families. Sub-recipient activities are unknown at the time of the award.
Housing Authority of the Peoria Tribe of Indians of Oklahoma | 3606 Sencay Ave | Miami | OK | 74354-5343 | 2,438,000 | The Housing Authority of the Peoria Tribe of Indians of Oklahoma will use the grant ($2,438,000) and $781,500 of leveraged funds to build 16 single-family rental units in Miami, Oklahoma. Anticipated Outcome(s): Increase the number of housing units available to AIAN families, which are also energy efficient (16 new rental units). The beneficiaries will be low and moderate income Ameri can Indian and Alaska Native families. Sub-recipient activities are unknown at the time of the award.
Isleta Pueblo Housing Authority | P.O. Box 760 | Isleta | NM | 87022-0760 | 5,000,000 | The Isleta Pueblo Housing Authority will use the grant ($5,000,000) and $1,667,000 of leveraged funds to build 14 single-family homeowner units. Anticipated Outcome(s): Increase the number of housing units available to AIAN families (14 new homeowner units). The beneficiaries will be low and moderate income Ameri can Indian and Alaska Native families. Sub-recipient activities are unknown at the time of the award.
Jicarilla Apache Housing Authority | 42 Dawks Drive | Dulce | NM | 87528-0486 | 5,000,000 | The Jicarilla Apache Housing Authority will use the grant ($5,000,000) and $1,783,089 of leveraged funds to build 19-unit single family home ownership units. Anticipated Outcome(s): Increase the number of housing units available by 19 single family homeownership units. The beneficiaries will be low and moderate income American Indian and Alaska Native families. Sub-recipient activities are unknown at the time of the award.
Kenaitze Salamatof Tribally Designated Housing Entity | P.O. Box 988 | Kenai | AK | 99611-0988 | 5,000,000 | The Kenaitze Salamatof Tribally Designated Housing Entity will use the grant ($5,000,000) and $1,666,670 of leveraged funds to build an 18-unit Elder housing facility with multi-purpose community space in Kenai, Alaska. Anticipated Outcome(s): Increase the number of housing units available to AIAN Elders (18 new rental units). The beneficiaries will be low and moderate income Ameri can Indian and Alaska Native families. Sub-recipient activities are unknown at the time of the award.
Kiowa Tribe Housing Authority | 1701 E Central Blvd | Anadarko | OK | 73005-4448 | 5,000,000 | The Kiowa Tribe Housing Authority (KTHA) will use the grant ($5,000,000) and $1,666,670 of leveraged funds to develop three (3) rental units in the Kiowa Tribe service area and construct affordable-housing infrastructure on 40-acres of land purchased by the Kiowa Tribe and donated to KTHA for the future development of an additional 37 units. The beneficiaries will be low and moderate income Ameri can Indian and Alaska Native families. Sub-recipient activities are unknown at the time of the award. Anticipated Outcome(s): Increase the number of housing units available to AIAN families (3 new rental units) and develop the housing-related infrastructure necessary for future affordable housing development.
Little Traverse Bay Bands of Odawa Indians | 7500 Odawa Circle | Harbor Springs | MI | 49740-9692 | 5,000,000 | The Little Traverse Bay Bands of Odawa Indians will use the grant ($5,000,000) and $1,754,860 of leveraged funds to build four (4) apartment buildings with a total of 38 rental units at Mtiigwakiis Village. Anticipated Outcome(s): Increase the number of housing units available to AIAN families (38 new rental units). The beneficiaries will be low and moderate income Ameri can Indian and Alaska Native families. Sub-recipient activities are unknown at the time of the award.
Northern Circle Indian Housing Authority | 694 Pinoleville Drive | Ukiah | CA | 95482-3165 | 5,000,000 | The Northern Circle Indian Housing Authority will use the grant ($5,000,000) and $1,250,000 of leveraged funds to build eight (8) single-family rental units for low-income families on the Mooretown Rancheria. The homes will utilize renewable solar energy technology. Funding will also be used for related housing infrastructure and utilities. Anticipated Outcome(s): Increase the number of housing units available to AIAN families, which are also energy efficient (8 new rental units). The beneficiaries will be low and moderate income Ameri can Indian and Alaska Native families. Sub-recipient activities are unknown at the time of the award.
Salish & Kootenai Housing Authority | P.O. Box 38 | Pablo | MT | 59855-0038 | 5,000,000 | The Salish and Kootenai Housing Authority will use the grant ($3,827,781) and $1,670,000 of leveraged funds to build fifteen (15) rental units on the Flathead Indian Reservation. Anticipated Outcome(s): Increase the number of housing units available to AIAN families (15 new rental units). The beneficiaries will be low and moderate income Ameri can Indian and Alaska Native families. Sub-recipient activities are unknown at the time of the award.
Santa Ynez Band of Chumash Mission Indians | 100 Via Juana Rd | Santa Ynez | CA | 93460-9110 | 1,826,050 | The Santa Ynez Band of Chumash Mission Indians will use the grant ($1,826,050) and $622,794 of leveraged funds to build five (5) single-family homeowner units on the Santa Ynez Reservation in central Santa Barbara County, California. The beneficiaries will be low and moderate income Ameri can Indian and Alaska Native families. Sub-recipient activities are unknown at the time of the award. Anticipated Outcome(s): Increase the number of housing units available to AIAN families, which are also energy efficient (5 new homeowners' units).
Scotts Valley Band of Pomo Indians | 1005 Parallel Drive | Lakeport | CA | 95453-5709 | 4,196,040 | The Scotts Valley Band of Pomo Indians will use the grant ($4,196,040) and $1,400,000 of leveraged funds to build twelve (12) single-family homeowner units in Kelseyville, California. Anticipated Outcome(s): Increase the number of housing units available to AIAN families (12 new homeowner units). The beneficiaries will be low and moderate income Ameri can Indian and Alaska Native families. Sub-recipient activities are unknown at the time of the award.
Sicangu Wicoti Awayankape Corporation | P.O. Box 69 | Rosebud | SD | 57570-0069 | 4,579,640 | The Sicangu Wicoti Awayankape Corporation will use the grant ($4,579,640) and $650,650 of leveraged funds to build 18 new homeownership housing units. Anticipated Outcome(s): Increase the number of housing units available by 18 new homeownership units servicing 18 low-income Indian families. The beneficiaries will be low income American Indian and Alaska Native families. Sub-recipient activities are unknown at the time of the award.
Sisseton-Wahpeton Housing Authority | 605 Lydia Goodsell St | Sisseton | SD | 57262 | 5,000,000 | The Sisseton-Wahpeton Housing Authority will use the grant ($5,000,000) and $1,960,479 of leveraged funds to build 42 rental units. Anticipated Outcome(s): Increase the number of housing units available to AIAN families (42 new rental units). The beneficiaries will be low and moderate income Ameri can Indian and Alaska Native families. Sub-recipient activities are unknown at the time of the award.
Skokomish Indian Tribe | 80 N Tribal Center Rd | Skokomish | WA | 98584-9748 | 1,869,075 | The Skokomish Indian Tribe will use the grant ($1,869,075) and $623,025 of leveraged funds to build seven (7) rental units. Anticipated Outcome(s): Increase the number of housing units available to AIAN families (7 new rental units). The beneficiaries will be low and moderate income Ameri can Indian and Alaska Native families. Sub-recipient activities are unknown at the time of the award.
Susanville Indian Rancheria Housing Authority | P.O. BOX 970 | Susanville | CA | 96130-3628 | 2,837,856 | The Susanville Indian Rancheria Housing Authority will use the grant ($4,196,040) and $358,000 of leveraged funds to build ten (10) rental units, of which six (6) will be for families and four (4) will be handicap-accessible and/or available to Elders on the Susanville Indian Rancheria. Anticipated Outcome(s): Increase the number of housing units available to AIAN families (10 new rental units), and make the homes accessible and available for Elders. The beneficiaries will be low and moderate income Ameri can Indian and Alaska Native families. Sub-recipient activities are unknown at the time of the award.
The Suquamish Indian Tribe of the Port Madison Reservation | 18490 Suquamish Way | Suquamish | WA | 98392-0498 | 3,897,024 | The Suquamish Indian Tribe of the Port Madison Reservation will use the grant ($3,897,024) and $1,300,305 of leveraged funds to build 20 housing units on the Port Madison Reservation. The project will consist of five multi-family townhome structures with a total of 20 housing units. The beneficiaries will be low and moderate income Ameri can Indian and Alaska Native families. Sub-recipient activities are unknown at the time of the award. Anticipated Outcome(s): Increase the number of housing units available to AIAN families, which are also energy efficient (20 new homeowner units).
Tlingit Haida Regional Housing Authority | 5446 Jenkins Drive | Juneau | AK | 99801-9511 | 5,000,000 | The Tlingit Haida Regional Housing Authority will use the grant ($5,000,000) and $1,689,802 of leveraged funds to build twelve (12) three-bedroom homeowner units in Juneau, Alaska. Anticipated Outcome(s): Increase the number of housing units available to AIAN families (12 new homeowner units). The beneficiaries will be low and moderate income Ameri can Indian and Alaska Native families. Sub-recipient activities are unknown at the time of the award.
Torres Martinez Desert Cahuilla Indians | P.O. BOX 1160 | Thermal | CA | 92274-1160 | 2,000,000 | The Torres Martinez Desert Cahuilla Indians will use the grant ($2,000,000) and $671,945 of leveraged funds to build six (6) single-family homeowner units on the Torres-Martinez Reservation. Anticipated Outcome(s): Increase the number of housing units available to AIAN families (6 new homeowner units). The beneficiaries will be low and moderate income Ameri can Indian and Alaska Native families. Sub-recipient activities are unknown at the time of the award.
Village of Venetie | 110 Woodyard Road | Venetie | AK | 99781 | 600,000 | The Village of Venetie will use the grant ($600,000) and $200,000 of leveraged funds to build two (2) single-family homeowner units. Anticipated Outcome(s): Increase the number of housing units available to AIAN families (2 new homeowner units). The beneficiaries will be low and moderate income Ameri can Indian and Alaska Native families. Sub-recipient activities are unknown at the time of the award.
Yurok Indian Housing Authority | 15540 Highway 101 N | Klamath | CA | 95548-9351 | 4,280,512 | The Yurok Indian Housing Authority will use the grant ($4,280,512) and $556,684 of leveraged funds to build five (5) single-family homeowner units and provide supportive services. Anticipated Outcome(s): Increase the number of housing units available to AIAN families (5 new homeowner units). The beneficiaries will be low and moderate income Ameri can Indian and Alaska Native families. Sub-recipient activities are unknown at the time of the award.
Total |  |  |  |  | 115,751,859 |

Appendix P

FY 2019 and 2020 Section 8 Housing Choice Vouchers: Implementation of the Housing Choice Voucher Mobility Demonstration (FR-6191-N-01)

Contact: Alison Bell, (202) 402-5673.

Organization name | Address | City | State | Zip | Amount grant funds | Project description
Housing Authority of the City of Los Angeles | 2600 Wilshire Blvd, 3rd Floor | Los Angeles | CA | 90057 | $4,825,472.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Housing Authority of New Orleans | 4100 Touro Street | New Orleans | LA | 70122 | 5,203,873.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Minneapolis Public Housing Authority | 1001 Washington Avenue North | Minneapolis | MN | 55401 | 4,650,441.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Rochester Housing Authority | 675 Main Street | Rochester | NY | 14611 | 4,813,646.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
New York Housing Preservation and Development | 100 Gold Street | New York | NY | 10038 | 5,514,580.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Cuyahoga Metropolitan Housing Authority | 8120 Kinsman Road | Cleveland | OH | 44104 | 4,970,959.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Allegheny County Housing Authority | 625 Stanwix Street, 12th Floor | Pittsburgh | PA | 15222 | 4,655,345.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Housing Authority of Chester County | 30 W Barnard Street | West Chester | PA | 19382 | 3,711,653.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Metropolitan Development and Housing Agency | 701 South Sixth Street | Nashville | TN | 37202 | 4,984,654.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Housing Authority of the City of Pittsburgh | 200 Ross Street | Pittsburgh | PA | 15219 | 249,419.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Chester Housing Authority | 1111 Avenue of the States | Chester | PA | 19013 | 803,120.00 | 1. Purpose; The purpose of the Community Choice Demonstration is to assist voucher families with children in accessing areas of opportunity. 2. Activities to be performed; The awardees will provide mobility-related services to families with children. 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Los Angeles County Development Authority | 700 West Main Street | Alhambra | CA | 91801 | 761,339.00 | 1. Purpose; The purpose of the Community Choice Demonstration is to assist voucher families with children in accessing areas of opportunity. 2. Activities to be performed; The awardees will provide mobility-related services to families with children.
|  |  |  |  |  | 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Metropolitan HRA | 390 Robert Street North | St. Paul | MN | 55101 | 585,649.00 | 1. Purpose; The purpose of the Community Choice Demonstration is to assist voucher families with children in accessing areas of opportunity. 2. Activities to be performed; The awardees will provide mobility-related services to families with children. 3. Deliverables and expected outcomes; The awardee will participate in a robust evaluation and HUD anticipates learning what mobility-related services are effective in helping voucher families with children access areas of opportunity. 4. Intended beneficiary(ies); The intended beneficiaries are voucher families with children, and 5. Subrecipient Activities; There are no subrecipient activities.
Total |  |  |  |  | 45,730,150.00 |

Appendix Q

FY 2021 Choice Neighborhoods Implementation Grants (FR-6500-FA-34)

Contact: Luci Blackburn, (202) 402-4190.

Organization name | Address | City | State | Zip | Amount grant funds | Project description
City of Omaha | 1819 Farnam St | Omaha | NE | 68183 | $50,000,000.00 | 1. Purpose: Choice Neighborhoods Implementation Grants fund the transformation, rehabilitation, and replacement housing needs of both public and HUD-assisted housing to transform neighborhoods of poverty into functioning, sustainable, mixed-income neighborhoods with appropriate services, schools, public assets, transportation, and access to jobs. 2. Activities to be performed: Redevelop the Southside Terrace public housing development, provide case management and supportive services to Southside Terrace residents, and carryout physical neighborhood improvement projects.
|  |  |  |  |  | 3. Deliverables and expected outcomes: One-for-one replacement of public housing units, plus additional affordable and market rate units in a mixed-income community; improved outcomes for residents related to health, education, and income and employment. 4. Intended beneficiary(ies): local residents, PHAs, local government 5. Subrecipient Activities: The recipient does not intend to subaward funds.
Durham Housing Authority | 330 E Main St | Durham | NC | 27701 | 40,000,000.00 | 1. Purpose: Choice Neighborhoods Implementation Grants fund the transformation, rehabilitation, and replacement housing needs of both public and HUD-assisted housing to transform neighborhoods of poverty into functioning, sustainable, mixed-income neighborhoods with appropriate services, schools, public assets, transportation, and access to jobs. 2. Activities to be performed: Redevelop the 519 E. Main Street and Liberty Street Apartments public housing development, provide case management and supportive services to 519 E. Main Street and Liberty Street Apartments residents, and carryout physical neighborhood improvement projects.
|  |  |  |  |  | 3. Deliverables and expected outcomes: One-for-one replacement of public housing units, plus additional affordable and market rate units in a mixed-income community; improved outcomes for residents related to health, education, and income and employment. 4. Intended beneficiary(ies): local residents, PHAs, local government 5. Subrecipient Activities: The recipient does not intend to subaward funds.
Knoxville Community Development Corporation | 901 Broadway | Knoxville | TN | 37917 | 40,000,000.00 | 1. Purpose: Choice Neighborhoods Implementation Grants fund the transformation, rehabilitation, and replacement housing needs of both public and HUD-assisted housing to transform neighborhoods of poverty into functioning, sustainable, mixed-income neighborhoods with appropriate services, schools, public assets, transportation, and access to jobs. 2. Activities to be performed: Redevelop the Western Heights Addition public housing development, provide case management and supportive services to Southside Terrace residents, and carryout physical neighborhood improvement projects.
|  |  |  |  |  | 3. Deliverables and expected outcomes: One-for-one replacement of public housing units, plus additional affordable and market rate units in a mixed-income community; improved outcomes for residents related to health, education, and income and employment. 4. Intended beneficiary(ies): local residents, PHAs, local government 5. Subrecipient Activities: The recipient does not intend to subaward funds.
Tulsa Housing Authority | 415 E Independence St | Tulsa | OK | 74106 | 50,000,000.00 | 1. Purpose: Choice Neighborhoods Implementation Grants fund the transformation, rehabilitation, and replacement housing needs of both public and HUD-assisted housing to transform neighborhoods of poverty into functioning, sustainable, mixed-income neighborhoods with appropriate services, schools, public assets, transportation, and access to jobs. 2. Activities to be performed: Redevelop the Comanche Park Apartments public housing development, provide case management and supportive services to Comanche Park Apartments residents, and carryout physical neighborhood improvement projects.
|  |  |  |  |  | 3. Deliverables and expected outcomes: One-for-one replacement of public housing units, plus additional affordable and market rate units in a mixed-income community; improved outcomes for residents related to health, education, and income and employment. 4. Intended beneficiary(ies): local residents, PHAs, local government 5. Subrecipient Activities: The recipient does not intend to subaward funds.
Total |  |  |  |  | 180,000,000.00

[FR Doc. 2023-14774 Filed 7-14-23; 8:45 am]

BILLING CODE P